DEPARTMENT OF HOMELAND SECURITY

Federal Emergency Management Agency

44 CFR Part 67

[Docket No. FEMA-D-7660]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr. CFM, Acting Section Chief, Engineering Management Section, Mitigation Division, 500 C Street, SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location of referenced elevation | #Depth in feet above ground. *Elevation in feet (NGVD) •Elevation in feet (NAVD): Effective | #Depth in feet above ground. *Elevation in feet (NGVD) •Elevation in feet (NAVD): Modified | Communities affected
FLORIDA
Santa Rosa County
Pace Mill Creek | Approximately 1,300 feet downstream of U.S. Route 90 | •11 | •12 | Santa Rosa County (Unincorporated Areas).
| At downstream side of Chumuckla Highway | None | •127
Pond Creek | Approximately 500 feet upstream of CSX Railroad | •9 | •10 | Santa Rosa County (Unincorporated Areas), City of Milton.
| At upstream side of William Norris Road | None | •68
Santa Rosa County (Unincorporated Areas)
Maps available for inspection at the Santa Rosa County Public Services Department, 6051 Old Bagdad Highway, Milton, Florida.
Send comments to Mr. Hunter Walker, Santa Rosa County Administrator, 6495 Caroline Street, Suite D, Milton, Florida 32570-4592.
City of Milton
Maps available for inspection at the City of Milton Planning and Development Department, 6738 Dixon Street, Milton, Florida.
Send comments to The Honorable Guy Thompson, Mayor of the City of Milton, P.O. Box 909, Milton, Florida 32572.
NEW JERSEY
Somerset County
Cory's Brook | At the confluence with Passaic River | •214 | •207 | Township of Warren.
| Approximately 1,800 feet upstream of Powder Horn Road | None | •405
Dead River | At the confluence with Passaic River | •215 | •213 | Townships of Bernards and Warren.
| Approximately 300 feet upstream of Annin Road | None | •269
Harrison Brook | At the confluence of Dead River | •221 | •220 | Township of Bernards.
| Approximately 250 feet upstream of South Alward Avenue | None | •327
Harrison Brook Branch 2 | At the confluence with Harrison Brook | •241 | •238 | Township of Bernards.
| Approximately 875 feet upstream of Private Road | None | •272
Holland Brook | At the confluence of South Branch Raritan River | •62 | •61 | Township of Branchburg.
| Approximately 1,000 feet upstream of Old York Road | None | •89
Middle Brook (to Raritan River) | At the confluence with Raritan River | •36 | •38 | Township of Bridgewater, Borough of Bound Brook.
| At State Route 22 | •66 | •74
Neshanic River | At the confluence with South Branch Raritan River | •81 | •82 | Township of Hillsborough.
| Approximately 0.8 mile upstream of Private Road | •103 | •101
North Branch Raritan River | At the confluence with Raritan River | •63 | •61 | Boroughs of Bernardsville, Far Hills, Peapack and Gladstone, Townships of Branchburg, Bedminster and Bridgewater.
| At the Somerset and Morris County boundary | •296 | •294
Pike Run | At the downstream side of Township Line Road | •70 | •71 | Townships of Montgomery and Hillsborough.
| Approximately 1.1 miles upstream of Pleasant View Road | None | •114
Pike Run Tributary | At the confluence with Pike Run | •85 | •86 | Township of Hillsborough.
| Approximately 500 feet upstream of the confluence with Pike Run | •85 | •86
Raritan River | At the Somerset and Middlesex County boundary | •17 | •18 | Townships of Branchburg, Bridgewater and Franklin, Boroughs of Bound Brook, Manville, Raritan, Somerville, and South Bound Brook.
| At the confluence with North Branch and South Branch Raritan River | •63 | •61
Royce Brook | Approximately 6,500 feet upstream of the confluence with Millstone River | •45 | •41 | Township of Hillsborough, Borough of Manville.
| Approximately 1,000 feet upstream of East Mountain Road | None | •137
Royce Brook Tributary A | At the confluence with Royce Brook | •71 | •69 | Township of Hillsborough.
| Approximately 200 feet upstream of the confluence with Royce Brook | •71 | •70
Royce Brook Tributary B | At the confluence with Royce Brook | •51 | •50 | Township of Hillsborough.
| Approximately 200 feet upstream of the confluence with Royce Brook | •51 | •50
Royce Brook Tributary C | At the confluence with Royce Brook | •42 | •43 | Township of Hillsborough.
| Approximately 500 feet upstream of the confluence with Royce Brook | •42 | •43
South Branch Raritan River | At the confluence with Raritan River | •63 | •61 | Townships of Branchburg, Bridgewater and Hillsborough.
| At the Somerset and Hunterdon county boundary | •97 | •96
Borough of Bedminster
Maps available for inspection at the Bedminster Township Municipal Building, 130 Hillside Avenue, Bedminster, New Jersey.
Send comments to The Honorable Amey Mesko, Mayor of the Township of Bedminster, Bedminster Township Municipal Building, 130 Hillside Avenue, Bedminster, New Jersey 07921.
Township of Bernards
Maps available for inspection at the Bernards Township Engineering Services Building, 277 South Maple Avenue, Basking Ridge, New Jersey.
Send comments to The Honorable John Malay, Mayor of the Township of Bernards, 1 Collyer Lane, Basking Ridge, New Jersey 07920.
Borough of Bernardsville
Maps available for inspection at the Bernardsville Municipal Building, 166 Mine Brook Road, Bernardsville, New Jersey.
Send comments to The Honorable Jay Parsons, Mayor of the Borough of Bernardsville, P.O. Box 158, Bernardsville, New Jersey 07924.
Borough of Bound Brook
Maps available for inspection at the Bound Brook Borough Municipal Building, 230 Hamilton Street, Bound Brook, New Jersey.
Send comments to Mr. John J. Kennedy, Bound Brook Borough Administrator, Bound Brook Municipal Building, 230 Hamilton Street, Bound Brook, New Jersey 08805.
Township of Branchburg
Maps available for inspection at the Branchburg Township Engineering Department, 1077 Route 202 North, Branchburg, New Jersey.
Send comments to The Honorable Kate Sarles, Mayor of the Township of Branchburg, 1077 Route 202 North, Branchburg, New Jersey 08876.
Township of Bridgewater
Maps available for inspection at the Bridgewater Township Code Enforcement Office, 700 Garretson Road, Bridgewater, New Jersey.
Send comments to The Honorable Patricia Flannery, Mayor of the Township of Bridgewater, 700 Garretson Road, Bridgewater, New Jersey 08807.
Borough of Far Hills
Maps available for inspection at the Far Hills Borough Municipal Building, 6 Prospect Street, Far Hills, New Jersey.
Send comments to The Honorable Carl J. Torsilieri, Far Hills Borough Municipal Building, P.O. Box 477, Far Hills, New Jersey 07931.
Township of Franklin
Maps available for inspection at the Franklin Township Engineering Department, 475 De Mott Lane, Somerset, New Jersey.
Send comments to Mr. Kenneth W. Daly, Franklin Township Manager, 475 De Mott Lane, Somerset, New Jersey 08873.
Township of Hillsborough
Maps available for inspection at the Hillsborough Township Municipal Complex, 379 South Branch Road, Hillsborough, New Jersey.
Send comments to The Honorable Carl Suraci, Mayor of the Township of Hillsborough, 379 South Branch Road, Hillsborough, New Jersey 08844.
Borough of Manville
Maps available for inspection at the Manville Borough Municipal Building, 325 North Main Street, Manville, New Jersey.
Send comments to The Honorable Angelo Corradino, Mayor of the Borough of Manville, 325 North Main Street, Manville, New Jersey 08835.
Township of Montgomery
Maps available for inspection at the Montgomery Township Municipal Building, 2261 Van Horne Road, Route 206, Belle Mead, New Jersey.
Send comments to The Honorable Louise Wilson, 2261 Van Horne Road, Route 206, Belle Mead, New Jersey 08502.
Borough of Peapack and Gladstone
Maps available for inspection at the Peapack and Gladstone Borough Municipal Building, 1 School Street, Peapack, New Jersey.
Send comments to The Honorable Vincent A. Girardy, Mayor of the Borough of Peapack and Gladstone, P.O. Box 218, 1 School Street, Peapack, New Jersey 07977.
Borough of Raritan
Maps available for inspection at the Raritan Borough Municipal Building, 22 First Street, Raritan, New Jersey.
Send comments to The Honorable Philip M. Possessky, Mayor of the Borough of Raritan, 22 First Street, Raritan, New Jersey 08869.
Borough of Somerville
Maps available for inspection at the Somerville Borough Hall, 25 West End Avenue, Somerville, New Jersey
Send comments to The Honorable Brian G. Gallagher, 25 West End Avenue, Somerville, New Jersey 08876.
Borough of South Bound Brook
Maps available for inspection at the Borough of South Bound Brook Municipal Building, 12 Main Street, South Bound Brook, New Jersey.
Send comments to The Honorable Jo-Anne B. Schubert, Mayor of the Borough of South Bound Brook, Borough of South Bound Brook Municipal Building, 12 Main Street, South Bound Brook, New Jersey 08880.
Township of Warren
Maps available for inspection at the Warren Township Engineering Department, 48 Mountain Boulevard, Warren, New Jersey.
Send comments to The Honorable Carolyn Garafola, Mayor of the Township of Warren, 48 Mountain Boulevard, Warren, New Jersey 07059.
NORTH CAROLINA
Bladen County
Bryant Swamp | At the Bladen/Robeson County boundary | None | •96 | Town of Bladenboro, Bladen County (Uunincorporated Areas).
| Approximately 0.3 mile upstream of State Route 211 Bypass | None | •107 |
Goodman Swamp (formerly Crooked Bay) | At the Bladen/Robeson County boundary | None | •109 | Bladen County (Unincorporated Areas).
| Approximately 1,200 feet downstream of Tar-heel Ferry Road | None | 113 |
Elkton Marsh | At the confluence with Brown Marsh Swamp | None | •75 | Bladen County (Unincorporated Areas).
| Approximately 150 feet downstream of Burney Ford Road | None | •81 |
Horsepen Branch | Approximately 1,500 feet downstream of the confluence of Spring Branch | None | •89 | Bladen County (Unincorporated Areas).
| Approximately 0.5 mile upstream of State Route 410 | None | •100 |
Rattlesnake Creek | At the confluence of Spring Branch | None | •89 | Bladen County (Unincorporated Areas).
| At the Bladen-Columbus County boundary | None | •96
Town of Bladenboro
Maps available for inspection at the Bladenboro Town Hall, 305 South Main Street, Bladenboro, North Carolina.
Send comments to The Honorable Livingston Lewis, Mayor of the Town of Bladenboro, P.O. Box 455, Bladenboro, North Carolina 28320.
Bladen County (Unincorporated Areas)
Maps available for inspection at the Bladen County Courthouse, 106 East Broad Street, Room 107, Elizabethtown, North Carolina.
Send comments to Mr. Gregory Martin, Bladen County Manager, P.O. Box 1048, Elizabethtown, North Carolina 28337.
Chatham County
Bear Creek | Approximately 0.6 mile upstream of Edwards Hill Church Road | None | •456 | Chatham County (Unincorporated Areas).
| Approximately 2.7 miles upstream of confluence of Bear Creek Tributary | None | •479 |
Bear Creek Tributary 1 | At the confluence with Bear Creek | None | •457 | Chatham County (Unincorporated Areas).
| Approximately 0.5 mile upstream of confluence with Bear Creek | None | •459 |
Brooks Creek Tributary | At the confluence with Brooks Creek | None | •384 | Chatham County (Unincorporated Areas) Town of Pittsboro.
| Approximately 970 feet upstream of Russells Chapel Church Road | None | •397 |
Tick Creek Tributary 1 | At the confluence with Tick Creek | None | •498 | Chatham County (Unincorporated Areas), Town of Siler City.
| Approximately 0.9 mile upstream of Mount Vernon Springs Road | None | •531 |
West Price Creek | At the Chatham/Orange County boundary | None | •467 | Chatham County (Unincorporated Areas).
| Approximately 1,930 feet upstream of the Chatham/Orange County boundary | None | •480 |
Harlands Creek | Approximately 800 feet upstream of U.S. 64 | None | •428 | Chatham County (Unincorporated Areas), Town of Pittsboro.
| Approximately 1.6 miles upstream of U.S. 64 | None | •445 |
Tysons Creek Tributary | At the confluence with Tysons Creek | None | •341 | Chatham County (Unincorporated Areas).
| Approximately 0.8 mile upstream of State Route 42 | None | •386 |
Chatham County (Unincorporated Areas)
Maps available for inspection at the Chatham County Planning Department, 80-A East Street, Pittsboro, North Carolina
Send comments to Mr. Charlie Horne, Chatham County Manager, P.O. Box 87, Pittsboro, North Carolina 27312.
Town of Pittsboro
Maps available for inspection at the Pittsboro Town Planning Office, Town Hall, 635 East Street, Pittsboro, North Carolina.
Send comments to the Honorable Nancy May, Mayor of the Town of Pittsboro, P.O. Box 759, Pittsboro, North Carolina 27312.
Town of Siler City
Maps available for inspection at the Town of Siler City Zoning Office, Town Hall, 311 North Second Avenue, Room 301, Siler City, North Carolina.
Send comments to Mr. Joel Brower, Siler City Town Manager, P.O. Box 769, Siler City, North Carolina 27344.
Cumberland County
Cape Fear River Tributary 2 | At the confluence with Cape Fear River | •95 | •96 | Cumberland County (Unincorporated Areas), Town of Wade.
| Approximately 0.4 mile upstream of Interstate 95 | None | •131
Little Rockfish Creek | Approximately 50 feet upstream of Cameron Road | •80 | •81 | Cumberland County (Unincorporated Areas), Town of Hope Mills.
| Approximately 500 feet downstream of Plank Road | None | •182
Muddy Creek | At the confluence with Little River | •152 | •150 | Cumberland County (Unincorporated Areas), Town of Spring Lake.
| At the Cumberland/Harnett County boundary | None | •175
Cumberland County (Unincorporated Areas):
Maps available for inspection at the Cumberland County Mapping Department, 117 Dick Street, Fayetteville, North Carolina.
Send comments to Mr. James E. Martin, Cumberland County Manager, P.O. Box 1829, Fayetteville, North Carolina 28302.
Hope Mills (Town):
Maps available for inspection at the Hope Mills Town Hall, 5770 Rockfish Road, Hope Mills, North Carolina.
Send comments to The Honorable Eddie Dees, Mayor of the Town of Hope Mills, P.O. Box 367, Hope Mills, North Carolina 28348.
Spring Lake (Town):
Maps available for inspection at the Spring Lake Town Hall, 300 Ruth Street, Spring Lake, North Carolina.
Send comments to The Honorable Ethel Clark, Mayor of the Town of Spring Lake, P.O. Box 617, Spring Lake, North Carolina 28390.
Wade (Town):
Maps available for inspection at the Wade Town Hall, 7128 Main Street, Wade, North Carolina.
Send comments to The Honorable Huell Aekins, Mayor of the Town of Wade, P.O. Box 127, Wade, North Carolina 28395.
Forsyth County
Ader Creek | At the confluence with Lick Creek | None | •721 | Unincorporated Areas of Forsyth County.
| Approximately 0.4 mile upstream of the confluence with Lick Creek | None | •732
Belews Creek | At the Forsyth/Stokes County boundary | None | •737 | Unincorporated Areas of Forsyth County.
| Approximately 0.8 mile upstream of Old Valley School Road (SR 2024) | None | •821
Belews Creek Tributary 4 | At the confluence with Belews Creek | None | •749 | Unincorporated Areas of Forsyth County.
| Approximately 1,500 feet upstream of the confluence with Belews Creek | None | •758
Belews Creek Tributary 5 | Approximately 750 feet upstream of the confluence with Belews Creek | None | •786 | Unincorporated Areas of Forsyth County.
| Approximately 1.6 miles upstream of the confluence with Belews Creek | None | •850
Belews Lake | Entire shoreline | None | •737 | Unincorporated Areas of Forsyth County.
Buffalo Creek (into Town Fork Creek) | Approximately 500 feet downstream of the Forsyth/Stokes County boundary | None | •667 | Unincorporated Areas of Forsyth County.
| Approximately 50 feet upstream of the Forsyth/Stokes County boundary | •669 | •668
Buffalo Creek Tributary | At the upstream side of Shiloh Church Road | •738 | •740 | Unincorporated Areas of Forsyth County.
| Approximately 0.6 mile upstream of Shiloh Church Road (SR 1932) | •759 | •761
Crooked Run Creek | Approximately 480 feet upstream of Meadowbrook Road (SR 1105) | None | •856 | Unincorporated Areas of Forsyth County, Village of Tobaccoville.
| Approximately 850 feet upstream of the Forsyth/Stokes County boundary | None | •884
Crooked Run Creek Tributary | At the Forsyth/Stokes County boundary | None | •935 | Unincorporated Areas of Forsyth County, Village of Tobaccoville.
| Approximately 0.4 mile upstream of the confluence of Crooked Run Creek Tributary 2 of Tributary | None | •992
Crooked Run Creek Tributary 1 of Tributary | At the confluence with Crooked Run Creek Tributary | None | •953 | Unincorporated Areas of Forsyth County, Village of Tobaccoville.
| Approximately 1,100 feet upstream of the confluence with Crooked Run | None | •973
Dean Creek | Approximately 0.6 mile upstream of Lenbrook Road (SR 2074) | None | •816 | Unincorporated Areas of Forsyth County.
| Approximately 0.9 mile upstream of Lenbrook Road (SR 2074) | None | •827
Dean Creek Tributary | Approximately 450 feet upstream of the confluence with Dean Creek | None | •789 | Unincorporated Areas of Forsyth County.
| Approximately 0.5 mile upstream of the confluence with Dean Creek | None | •802
East Belews Creek | At the confluence with Belews Creek | None | •737 | Unincorporated Areas of Forsyth County, Town of Kernersville.
| Approximately 2.1 miles upstream of Warren Road (SR 2019) | None | •913
East Belews Creek Tributary 1 | At the confluence with East Belews Creek | None | •737 | Unincorporated Areas of Forsyth County.
| At the Forsyth/Guilford County boundary | None | •737
East Belews Creek Tributary 1 of Tributary 1 | At the confluence with East Belews Creek Tributary 1 | None | •737 | Unincorporated Areas of Forsyth County.
| At the Forsyth/Guilford County boundary | None | •737
East Belews Creek Tributary 2 | At the confluence with East Belews Creek | None | •737 | Unincorporated Areas of Forsyth County.
| Approximately 0.7 mile upstream of Benefit Church Road (SR 1970) | None | •750
Harley Creek | Approximately 350 feet upstream of the confluence with Belews Creek | None | •759 | Unincorporated Areas of Forsyth County.
| Approximately 1.9 mile upstream of the confluence with Belews Creek | None | •796
Kansas Branch | At the confluence with Old Field Creek | None | •715 | Unincorporated Areas of Forsyth County.
| Approximately 1.3 mile upstream of the confluence with Old Field Creek | None | •890
Kings Creek | At the confluence with East Belews Creek | None | •737 | Unincorporated Areas of Forsyth County.
| At the Forsyth/Guilford County boundary | None | •737
Leak Branch | Approximately 50 feet downstream of the Forsyth/Stokes County boundary | None | •703 | Unincorporated Areas of Forsyth County.
| Approximately 1.7 miles upstream of the Forsyth/Stokes County boundary | None | •878
Left Fork Belews Creek | At the confluence with Belews Creek | None | •750 | Unincorporated Areas of Forsyth County.
| Approximately 1.2 miles upstream of Rail Fence Road (SR 2009) | None | •860
Lick Creek | Approximately 700 feet upstream of the confluence of Right Prong Lick Creek | None | •647 | Unincorporated Areas of Forsyth County.
| At the confluence of Ader Creek | None | •721
Lick Creek Tributary 1 | At the Forsyth/Stokes County boundary | None | •647 | Unincorporated Areas of Forsyth County.
| Approximately 1.4 miles upstream of the Forsyth/Stokes County boundary | None | •685
Lick Creek Tributary 2 | At the confluence with Lick Creek | None | •678 | Unincorporated Areas of Forsyth County.
| Approximately 750 feet upstream of the confluence with Lick Creek | None | •687
Little Yadkin River | Approximately 0.8 mile upstream of the confluence with Yadkin River | None | •765 | Unincorporated Areas of Forsyth County.
| Approximately 0.9 mile upstream of Spainhour Mill Road | None | •786
Little Yadkin River Tributary near Perch Road | At the confluence with Little Yadkin River | None | •775 | Unincorporated Areas of Forsyth County.
| Approximately 2,100 feet upstream of the confluence with Little Yadkin River | None | •775
Little Yadkin River Tributary of Tributary near Perch Road | At the confluence with Little Yadkin River Tributary near Perch Road | None | •775 | Unincorporated Areas of Forsyth County.
| Approximately 1,000 feet upstream of the confluence with Little Yadkin River Tributary near Perch Road | None | •800
Mill Creek (into Old Field Creek) | At the confluence with Old Field Creek | None | •718 | Unincorporated Areas of Forsyth County.
| Approximately 0.5 mile upstream of the confluence with Old Field Creek | None | •731
Old Field Creek | Approximately 0.4 mile downstream of Dennis Road (SR 1943) | None | •653 | Unincorporated Areas of Forsyth County.
| Approximately 0.6 mile upstream of the confluence of Mill Creek (into Old Field Creek) | None | •757
Paynes Branch | Approximately 50 feet downstream of the Forsyth/Stokes County boundary | None | •778 | Unincorporated Areas of Forsyth County.
| Approximately 1.1 miles upstream of the Forsyth/Stokes County boundary | None | •890
Paynes Branch Tributary | At the Forsyth/Stokes County boundary | None | •863 | Unincorporated Areas of Forsyth County.
| Approximately 0.5 mile upstream of the Forsyth/Stokes County boundary | None | •898
Red Bank Creek | At the Forsyth/Stokes County boundary | None | •694 | Unincorporated Areas of Forsyth County.
| Approximately 3.9 miles upstream of the Forsyth/Stokes County boundary | None | •904
Right Prong Lick Creek | At the confluence with Lick Creek | None | 651 | Unincorporated Areas of Forsyth County.
| Approximately 0.6 mile upstream of West Road (SR 1954) | None | •681
Rough Fork | Approximately 1,700 feet upstream of the confluence with Buffalo Creek (into Town Fork Creek) | •709 | •705 | Unincorporated Areas of Forsyth County.
| Approximately 1.3 miles upstream of Germanton Road (SR 1725) | None | •736
Town Fork Creek | Approximately 100 feet downstream of the Forsyth/Stokes County boundary | None | •687 | Unincorporated Areas of Forsyth County.
| At the confluence of Leak Branch | None | •703
Town Fork Creek Tributary 5 | At the confluence with Town Fork Creek | None | •689 | Unincorporated Areas of Forsyth County.
| Approximately 1,000 feet upstream of the confluence with Town Fork Creek | None | •705
Town Fork Creek Tributary 6 | At the confluence with Town Fork Creek | None | •698 | Unincorporated Areas of Forsyth County.
| Approximately 0.6 mile upstream of Par Farm Road | None | •768
West Belews Creek | Approximately 0.8 mile downstream of NC-69 | None | •737 | Unincorporated Areas of Forsyth County.
| Approximately 1 mile upstream of Tyner Road (SR 2008) | None | •810
West Belews Creek Tributary | At the confluence with West Belews Creek | None | •767 | Unincorporated Areas of Forsyth County.
| Approximately 1.2 miles upstream of the confluence with West Belews Creek | None | •799
Town of Kernersville
Maps are available for inspection at Kernersville Town Hall, 134 East Mountain Street, Kernersville, North Carolina.
Send comments to The Honorable Curtis Swisher, Mayor, Town of Kernersville, P.O. Drawer 728, Kernersville, North Carolina 27285.
Unincorporated Areas of Forsyth County
Maps are available for inspection at City/County Planning Board Office, 100 East First Street, Winston-Salem, North Carolina.
Send comments to Mr. Graham Pervier, Forsyth County Manager, Forsyth County Government Center, Winston-Salem, North Carolina 27101.
Village of Tobaccoville
Maps are available for inspection at Tobaccoville Village Hall, 6936 Doral Drive, Tobaccoville, North Carolina.
Send comments to The Honorable Keith Snow, Mayor, Village of Tobaccoville, P.O. Box 332, Tobaccoville, North Carolina 27050.
Granville County
Aarons Creek | At the North Carolina/Virginia State boundary | None | •381 | Unincorporated Areas of Granville County.
| Approximately 3.2 miles upstream of Grassy Creek Virgilina Road | None | •414
Bearskin Creek | At the confluence with Grassy Creek | None | •414 | Unincorporated Areas of Granville County.
| Approximately 820 feet upstream of NC Highway 96 | None | •443
Beech Creek | At the confluence with Kerr Reservoir (Johnson Creek) | None | •320 | Unincorporated Areas of Granville County.
| Approximately 0.9 mile upstream of the confluence with Kerr Reservoir (Johnson Creek) | None | •320
Blue Creek | At the confluence with Little Grassy Creek | None | •363 | Unincorporated Areas of Granville County.
| Approximately 0.9 mile upstream of Sam Hall Road | None | •405
Blue Creek Tributary 1 | At the confluence with Blue Creek | None | •402 | Unincorporated Areas of Granville County.
| Approximately 0.7 mile upstream of the confluence with Blue Creek | None | 414
Cedar Branch | At the confluence with John H. Kerr Reservoir/Grassy Creek | None | •320 | Unincorporated Areas of Granville County.
| Approximately 1.1 miles upstream of the North Carolina/Virginia State boundary | None | •320
Deer Pond Branch | At the confluence with Spewmarrow Creek | None | •320 | Unincorporated Areas of Granville County.
| Approximately 0.5 mile upstream of the confluence with Spewmarrow Creek | None | •325
Grassy Creek | At the North Carolina/Virginia State boundary | None | •320 | Unincorporated Areas of Granville County.
| Approximately 0.4 mile upstream of Noel Tuck Road | None | •539
Grassy Creek Tributary 1 | At the confluence with John H. Kerr Reservoir (Grassy Creek) | None | •320 | Unincorporated Areas of Granville County.
| At the North Carolina/Virginia State boundary | None | •322 |
Grassy Creek Tributary 2 | At the confluence with Grassy Creek | None | •475 | Unincorporated Areas of Granville County.
| Approximately 0.5 mile upstream of the confluence with Grassy Creek | None | •495 |
Grassy Creek Tributary 3 | At the confluence with Grassy Creek | None | •497 | Unincorporated Areas of Granville County.
| Approximately 1,000 feet upstream of Walnut Grove Road | None | •518 |
Howlett Creek | At the confluence with Little Island Creek | None | •363 | Unincorporated Areas of Granville County.
| Approximately 0.6 mile upstream of the confluence with Little Island Creek | None | •374 |
Island Creek | At the North Carolina/Virginia State boundary | None | •289 | Unincorporated Areas of Granville County.
| Approximately 0.5 mile upstream of Rockwell Road | None | •363 |
Island Creek Tributary 1 | At the confluence with Island Creek | None | •289 | Unincorporated Areas of Granville County.
| Approximately 0.8 mile upstream of the confluence with Island Creek | None | •299 |
Island Creek Tributary 2 | At the confluence with Island Creek | None | •297 | Unincorporated Areas of Granville County.
| Approximately 0.7 mile upstream of the confluence with Island Creek | None | •312 |
Island Creek Tributary 3 | At the confluence with Island Creek | None | •332 | Unincorporated Areas of Granville County.
| Approximately 0.5 mile upstream of the confluence with Island Creek | None | •353 |
Island Reservoir | Entire shoreline within Granville County | None | •289 | Unincorporated Areas of Granville County.
John H. Kerr Reservoir | Entire shoreline within Granville County | None | •320 | Unincorporated Areas of Granville County.
Johnson Creek | At the confluence with Grassy Creek | None | •320 | Unincorporated Areas of Granville County.
| Approximately 0.4 mile upstream of Lee Yancey Road | None | •336 |
Lick Branch | At the confluence with Spewmarrow Creek | None | •320 | Unincorporated Areas of Granville County.
| Approximately 1.2 miles upstream of Tilley Road | None | •325 |
Little Grassy Creek | At the confluence with Grassy Creek | None | •335 | Unincorporated Areas of Granville County.
| Approximately 1.3 miles upstream of Gela Road | None | •417 |
Little Island Creek | At the confluence with Island Creek | None | •363 | Unincorporated Areas of Granville County.
| Approximately 1.5 miles upstream of Hill Airy Road | None | •433 |
Little Island Creek Tributary 1 | At the confluence with Little Island Creek | None | •372 | Unincorporated Areas of Granville County.
| Approximately 640 feet upstream of Hill Airy Road | None | •405 |
Little Johnson Creek | At the confluence with Johnson Creek | None | •321 | Unincorporated Areas of Granville County.
| Approximately 1,400 feet upstream of Oak Hill Road | None | •394 |
Michael Creek | At the Granville/Vance County. boundary | None | •337 | Unincorporated Areas of Granville County.
| Approximately 1.7 miles upstream of Rockwell Road | None | •387 |
Mountain Creek | At the confluence with Grassy Creek | None | •355 | Unincorporated Areas of Granville County.
| Approximately 1.5 miles upstream of Cornwall Road | None | •412 |
Spewmarrow Creek | At the confluence with John H. Kerr Reservoir (Grassy Creek) | None | •320 | Unincorporated Areas of Granville County.
| Approximately 1.1 miles upstream of Herbert Faucette Road | None | •330 |
Spewmarrow Creek Tributary 1 | At the confluence with Spewmarrow Creek | None | •320 | Unincorporated Areas of Granville County.
| Approximately 1.2 miles upstream of the confluence with Spewmarrow Creek | None | •339 |
Unincorporated Areas of Granville County
Maps are available for inspection at the Granville County Planning Department, 122 Williamsboro Street, Oxford, NC 27565.
Send comments to Mr. J. Dudley Watts, Jr., Granville County Manager, P.O. Box 906, Oxford, NC 27565.
Halifax County
Bells Branch | At the confluence with Chockoyotte Creek | •117 | •116 | City of Roanoke Rapids.
| Approximately 850 feet upstream of the confluence with Chockoyotte Creek | •117 | •116 |
Bens Creek | Approximately 1.5 miles upstream of the Halifax/Warren County boundary | None | •199 | Unincorporated Areas of Halifax County.
Chockoyotte Creek | At the confluence with Roanoke River | •56 | •57 | Unincorporated Areas of Halifax County, City of Roanoke Rapids, Town of Weldon.
| Approximately 2.0 miles upstream of Zoo Road | None | •202 |
Chockoyotte Creek Tributary | At the confluence with Chockoyotte Creek | •83 | •79 | Town of Weldon, City of Roanoke Rapids, Unincorporated Areas of Halifax County.
| Approximately 30 feet downstream of County Road | •88 | •87 |
Chockoyotte Creek Tributary A | At the confluence with Chockoyotte Creek | •92 | •94 | Unincorporated Areas of Halifax County, City of Roanoke Rapids.
| Approximately 1,490 feet upstream of American Legion Road | None | •135 |
Chokoyotte Creek Tributary B | At the confluence with Chockoyotte Creek | •112 | •114 | City of Roanoke Rapids.
| At the downstream side of Julian R. Allsbrook Highway | None | •127 |
Conoconnara Swamp | At the confluence with Roanoke River | •41 | •43 | Unincorporated Areas of Halifax County.
| Approximately 1,000 feet upstream of NC-481 | None | •80 |
Conoconnara Swamp Tributary 1 | At the confluence with Conoconnara Swamp | None | •58 | Unincorporated Areas of Halifax County.
| Approximately 3.5 miles upstream of the confluence with Conoconnara Swamp | None | •67 |
Conoconnara Swamp Tributary 2 | At the confluence with Conoconnara Swamp | None | •72 | Unincorporated Areas of Halifax County.
| Approximately 0.7 mile upstream of the confluence with Conoconnara Swamp | None | •78 |
Conoconnara Swamp Tributary 2A | At the confluence with Conoconnara Swamp Tributary 2 | None | •77 | Unincorpoated Areas of Halifax County.
| Approximately 0.8 mile upstream of the confluence with Conoconnara Swamp | None | •85 |
Deep Creek (into Roanoke River) | Approximately 0.7 mile downstream of Thelma Road (SR 1400) | None | •133 | Unincorporated Areas of Halifax County.
| Approximately 80 feet downstream of Roper Springs Road (SR 1525) | None | •189
Deep Creek (into Roanoke River) Tributary 1 | At the confluence with Deep Creek (into Roanoke River) | None | •136 | Unincorporated Areas of Halifax County.
| Approximately 0.4 mile upstream of the confluence with Deep Creek (into Roanoke River) | None | •151 |
Deep Creek (into Roanoke River) Tributary 2 | At the confluence with Deep Creek (into Roanoke River) | None | •146 | Unincorporated Areas of Halifax County.
| Approximately 1,375 feet upstream of the confluence with Deep Creek (into Roanoke River) Tributary 2A | None | •162
Deep Creek (into Roanoke River) Tributary 2A | At the confluence with Deep Creek (into Roanoke River) Tributary 2 | None | •146 | Unincorporated Areas of Halifax County.
| Approximately 1,300 feet upstream of the confluence with deep Creek (into Roanoke River) Tributary 2 | None | •159
Deep Creek (into Roanoke River) Tributary 4 | At the confluence with Deep Creek (into Roanoke River) | None | •175 | Unincorporated Areas of Halifax County.
| Approximately 0.5 mile upstream of the confluence with Deep Creek (into Roanoke River) | None | •181
Deep Creek (into Roanoke River) Tributary 3 | At the confluence with Deep Creek (into Roanoke River) | None | •154 | Unincorporated Areas of Halifax County.
| Approximately 1,700 feet upstream of the confluence with Deep Creek (into Roanoke River) | None | •163
Hales Branch | At the upstream side of Zoo Road | None | •215 | Unincorporated Areas of Halifax County.
| Approximately 1,200 feet upstream of Zoo Road | None | •227
Hales Mill Pond Branch | At the confluence with Conoconnara Swamp | None | •67 | Unincorporated Areas of Halifax County.
| Approximately 300 feet upstream of Old 125 Road (SR 1103) | None | •73
Keehukee Swamp | At the confluence with Roanoke River | None | •28 | Unincorporated Areas of Halifax County.
| Approximately 250 feet downstream of Railroad | None | •61
Keehukee Swamp Tributary 1 | At the confluence with Keehukee Swamp | None | •28 | Unincorporated Areas of Halifax County.
| Approximately 1,650 feet upstream of the confluence with Keehukee Swamp | None | •28
Keehukee Swamp Tributary 2 | Approximately 2.1 miles upstream of the confluence with Keehukee Swamp | None | •27 | Unincorporated Areas of Halifax County.
| At the confluence with Keehukee Swamp | None | •29
Little Quankey Creek | Approximately 750 feet upstream of Interstate 95 | None | •134 | Unincorporated Areas of Halifax County.
| Approximately 600 feet upstream of NC-48 | None | •176
Little Quankey Creek | At the confluence with Quankey Creek | None | •87 | Town of Halifax.
| Approximately 0.75 mile upstream of NC-903 | None | •87
Nash Creek | Approximately 1.1 miles upstream of the confluence with Bells Branch | None | •143 | Unincorporated Areas of Halifax County.
| Approximately 2.5 miles upstream of the confluence with Bells Branch | None | •172
Quankey Creek | At the confluence with Roanoke River | None | •50 | Unincorporated Areas of Halifax County.
| Approximately 0.5 mile upstream of SR-301 (South King Street) | None | •87
Quankey Creek | At the confluence with Roanoke River | None | •50 | Town of Halifax.
| At the confluence with Little Quankey Creek | None | •87
Roanoke River | At the Martin/Bertie/Halifax County boundary | None | •28 | Unincorporated Areas of Halifax County, City of Roanoke Rapids, Town of Halifax, Town of Weldon.
| At the downstream side of Gaston Dam | •133 | •136
Webbs Mill Branch | At the confluence with Keehukee Swamp | None | •34 | Unincorporated Areas of Halifax County.
| Approximately 0.3 mile upstream of the confluence with Webbs Mill Branch Tributary 2 | None | •50
Webbs Mill Branch Tributary 1 | At the confluence with Webbs Mill Branch | None | •38 | Unincorporated Areas of Halifax County.
| Approximately 0.7 mile upstream of the confluence with Webbs Mill Branch | None | •57
Webbs Mill Branch Tributary 2 | At the confluence with Webbs Mill Branch | None | •45 | Unincorporated Areas of Halifax County, Town of Scotland Neck.
| Approximately 0.6 mile upstream of the confluence with Webbs Mill Branch | None | •51
City of Roanoke Rapids
Maps are available for inspection at the City of Roanoke Rapids Planning Department, 1040 Roanoke Avenue, Roanoke Rapids, North Carolina.
Send comments to The Honorable D.N. Bealle, Mayor, City of Roanoke Rapids, P.O. Box 38, Roanoke Rapids, North Carolina 27870.
Town of Halifax
Maps are available for inspection at the Halifax Town Hall, 24 South King Street, Halifax, North Carolina.
Send comments to The Honorable Gerald Wright, Mayor, Town of Halifax, P.O. Box 222, Halifax, North Carolina 27839.
Town of Scotland Neck
Maps are available for inspection at the Scotland Neck Town Hall, 1310 Main Street, Scotland Neck, North Carolina.
Send comments to The Honorable Robert Partin, Mayor, Town of Scotland Neck, P.O. Box 537, Scotland Neck, North Carolina 27874.
Town of Weldon
Maps are available for inspection at the Weldon Town Hall, 109 Washington Street, Weldon, North Carolina.
Send comments to The Honorable G.W. Draper, Jr., Mayor, Town of Weldon, P.O. Box 551, Weldon, North Carolina 27890.
Unincorporated Areas of Halifax County
Maps are available for inspection at the Halifax County Public Works Department, 26 North King Street, Room 102, Halifax, North Carolina.
Iredell County
Buffalo Shoals Creek | At the confluence with Catawba River | None | •765 | Unincorporated Areas of Iredell County.
| Approximately 0.5 mile upstream of New Sterling Road | None | •876
Catawba River | Approximately 0.6 mile downstream of Buffalo Shoals Road | None | •762 | Unincorporated Areas of Iredell County.
| At the downstream side of Lookout Shoals Dam | None | •781
Cornelius Creek (Lake Norman Cornelius Creek) | Approximately 0.6 mile downstream of Cornelius Road | None | •760 | Unincorporated Areas of Iredell County, Town of Mooresville.
| Approximately 500 feet upstream of Rankin Hill Road | None | •769
Goble Creek | At the confluence with Buffalo Shoals Creek | None | •827 | Unincorporated Areas of Iredell County.
| Approximately 1.4 miles upstream of I-40 | None | •853
Norwood Creek | Approximately 0.6 mile downstream of State Park Road (SR 1321) | None | •761 | Unincorporated Areas of Iredell County.
| Approximately 0.9 mile upstream of Ivey Ostwalt Road | None | •801
Powder Spring | At the confluence with Norwood Creek | None | •780 | Unincorporated Areas of Iredell County.
| Approximately 0.4 mile upstream of Pilgrim Circle | None | •901
Powder Spring Branch | Approximately 0.4 mile downstream of State Park Road (SR 1321) | None | •761 | Unincorporated Areas of Iredell County, Town of Troutman.
| Approximately 1.3 miles upstream of Hicks Creek Road | None | •800
Reeder Creek | At the confluence with Lake Norman (Catawba River) | None | •764 | Unincorporated Areas of Iredell County.
| Approximately 1,100 feet upstream of Rosebud Lane | None | •821
Reeder Creek Tributary 1 | At the confluence with Reeder Creek | None | •782 | Unincorporated Areas of Iredell County.
| Approximately 200 feet upstream of railroad | None | •803
Reeds Creek | Approximately 150 feet downstream of U.S. Highway 21 | •760 | •761 | Unincorporated Areas of Iredell County, Town of Mooresville.
| Approximately 0.6 mile upstream of West Plaza Drive | None | •808
Reeds Creek Tributary 2 | Upstream side of East Plaza Drive | None | •808 | Unincorporated Areas of Iredell County, Town of Mooresville.
| Approximately 0.5 mile upstream of East Plaza Drive | None | •825
Reeds Creek Tributary 3 | At the confluence with Reeds Creek Tributary 2 | None | •817 | Town of Mooresville.
| Approximately 0.4 mile upstream of the confluence with Reeds Creek Tributary 2 | None | •844
Rocky Creek | At the upstream side of Perth Road | None | •760 | Unincorporated Areas of Iredell County, Town of Troutman.
| Approximately 1.1 miles upstream of Perth Road | None | •774
Town of Mooresville
Maps are available for inspection at the City of Mooresville Office of Planning, 413 North Main Street, Unit C, Mooresville, NC 28115.
Send comments to The Honorable Bill Thundberg, Mayor of the City of Mooresville, P.O. Box 878, Mooresville, NC 28115.
Town of Troutman
Maps are available for inspection at the Troutman Town Hall, 400 North Eastway Drive, Troutman, NC 28166.
Send comments to The Honorable Elbert Richardson, Mayor of the Town of Troutman, P.O. Box 26, Troutman, NC 28166.
Unincorporated Areas of Iredell County
Maps are available for inspection at the Iredell County Planning Department, City Hall, 227 South Center Street, Statesville, NC 28687.
Send comments to Mr. Joel Mashburn, Iredell County Manager, P.O. Box 788, Statesville, NC 28687.
Orange County
Battle Branch | At the confluence with Bolin Creek | •260 | •263 | Town of Chapel Hill.
| Approximately 1.5 miles upstream of the confluence with Bolin Creek | None | •387
Cedar Fork | At North Lakeshore Drive | •307 | •309 | Town of Chapel Hill.
| Approximately 600 feet upstream of Kingston Drive | None | •554
Crow Branch | At the confluence with Booker Creek | None | •400 | Town of Chapel Hill.
| Approximately 0.5 mile upstream of dam | None | •500
Jones Creek | Approximately 0.4 mile upstream of the confluence with Bolin Creek | None | •482 | Town of Carrboro, Orange County (Unincorporated Areas).
| Approximately 0.6 mile upstream of Old NC 86 | None | •571
Little Creek | At the Orange County/Durham County boundary | •250 | •249 | Town of Chapel Hill.
| Approximately 1,000 feet downstream of the confluence with Booker Creek and Bolin Creek | •254 | •253
McGowan Creek | Approximately 1,600 feet upstream of the confluence with Eno River | •548 | •549 | Orange County (Unincorporated Areas).
| Approximately 300 feet upstream of Frazier Road | None | •690
Morgan Creek | Approximately 2.7 miles downstream of the Orange County/Chatham County boundary | None | •238 | Orange County (Unincorporated Areas), Town of Carrboro, Town of Chapel Hill.
| Approximately 2.7 miles downstream of Dairyland Road | •560 | •559
Mountain Creek | Approximately 1,100 feet upstream of the confluence with New Hope Creek | None | •474 | Orange County (Unincorporated Areas).
| Approximately 1.8 miles upstream of the confluence with New Hope Creek | None | •506
New Hope Creek | Approximately 200 feet upstream of Old NC 86 | None | •497 | Orange County (Unincorporated Areas).
| Approximately 1.5 miles upstream of Arthur Minnis Road | None | •529
Price Creek | At the confluence with University Lake | None | •358 | Orange County (Unincorporated Areas).
| Approximately 350 feet upstream of Damascus Church Road | None | •359
Rhodes Creek | Approximately 850 feet upstream of Cornwallis Road | None | •449 | Orange County (Unincorporated Areas).
| Approximately 1.2 miles upstream of Cornwallis Road | None | •507
Toms Creek | Approximately 50 feet upstream of NC 54 | None | •418 | Town of Carrboro.
| Approximately 700 feet upstream of Rainbow Drive | None | •468
Turkey Hill Creek | At the confluence with Cane Creek | None | •511 | Orange County (Unincorporated Areas).
| Approximately 0.8 mile upstream of Private Road | None | •610
University Lake (Price Creek) | Entire shoreline within communities | None | •358 | Orange County (Unincorporated Areas), Town of Carrboro.
Town of Carrboro
Maps available for inspection at the Town of Carrboro Planning Department, 301 West Main Street, Carrboro, North Carolina.
Send comments to Mr. Steve Stewart, Carrboro Town Manager, 301 West Main Street, Carrboro, North Carolina 27510.
Town of Chapel Hill
Maps available for inspection at the Town of Chapel Hill Stormwater Management Program Office, 209 North Columbia Street, Chapel Hill, North Carolina.
Send comments to The Honorable Kevin C. Foy, Mayor of the Town of Chapel Hill, Chapel Hill Town Hall, 405 Martin Luther King Jr. Boulevard, Chapel Hill, North Carolina 27514.
Orange County (Unincorporated Areas)
Maps available for inspection at the Orange County Planning and Inspections Department, 306F Revere Road, Hillsborough, North Carolina.
Send comments to Mr. John M. Link, Jr., Orange County Manager, 200 South Cameron Street, Hillsborough, North Carolina 27278.
Rockingham County
Belews Creek | At the confluence with Dan River | None | •588 | Unincorporated Areas of Rockingham County.
| At the confluence with Belews Lake | None | •737
Belews Creek Tributary 1 | At the confluence with Belews Creek | None | •588 | Unincorporated Areas of Rockingham County.
| Approximately 1.0 mile upstream of the confluence with Belews Creek Tributary 2 of Tributary 1 | None | •636 |
Belews Creek Tributary 1 of Tributary 1 | At the confluence with Belews Creek Tributary 1 | None | •588 | Unincorporated Areas of Rockingham County.
| Approximately 0.4 mile upstream of the confluence with Belews Creek Tributary 1 | None | •662
Belews Creek Tributary 1 of Tributary 2 | At the confluence with Belews Creek Tributary 2 | None | •780 | Unincorporated Areas of Rockingham County.
| Approximately 1,450 feet upstream of the confluence with Belews Creek Tributary 2 | None | •854
Belews Creek Tributary 1 of Tributary 3 | At the Rockingham/Stokes County boundary | None | •737 | Unincorporated Areas of Rockingham County.
| Approximately 1.5 miles upstream of the confluence with Belews Lake | None | •785
Belews Creek Tributary 2 | At the confluence with Belews Lake | None | •737 | Unincorporated Areas of Rockingham County.
| Approximately 0.5 mile upstream of the confluence of Belews Creek Tributary 1 of Tributary 2 | None | •822
Belews Creek Tributary 2 of Tributary 1 | At the confluence with Belews Creek Tributary 1 | None | •588 | Unincorporated Areas of Rockingham County.
| Approximately 0.7 mile upstream of the confluence with Belews Creek Tributary 1 | None | •645
Belews Lake | The entire shoreline within the county | None | •737 | Unincorporated Areas of Rockingham County.
Big Beaver Island Creek | Approximately 0.5 mile downstream of Park Road | None | •663 | Unincorporated Areas of Rockingham County.
| At the Rockingham/Stokes County boundary | None | •768
Big Beaver Island Creek Tributary 10 | At the confluence with Big Beaver Island Creek | None | •738 | Unincorporated Areas of Rockingham County.
| Approximately 700 feet upstream of the confluence with Big Beaver Island Creek | None | •746
Big Beaver Island Creek Tributary 11 | At the confluence with Big Beaver Island Creek | None | •760 | Unincorporated Areas of Rockingham County.
| At the Rockingham/Stokes County boundary | None | •765
Big Beaver Island Creek Tributary 12 | At the confluence with Big Beaver Island Creek | None | •764 | Unincorporated Areas of Rockingham County.
| Approximately 950 feet upstream of the confluence with Big Beaver Island Creek | None | •798
Big Beaver Island Creek Tributary 7 | At the confluence with Big Beaver Island Creek | None | •688 | Unincorporated Areas of Rockingham County.
| Approximately 850 feet upstream of the confluence with Big Beaver Island Creek | None | •696
Boaz Creek | At the confluence with Mayo River | None | •654 | Unincorporated Areas of Rockingham County, Town of Stoneville.
| Approximately 0.5 mile upstream of the confluence with Boaz Creek Tributary | None | •657
Boaz Creek Tributary | At the confluence with Boaz Creek | None | •654 | Unincorporated Areas of Rockingham County.
| Approximately 0.4 mile upstream of the confluence with Boaz Creek | None | •667
Brushy Creek | At the confluence with Jacobs Creek | None | •578 | Unincorporated Areas of Rockingham County.
| Approximately 1,800 feet upstream of Sharp Road | None | •628
Brushy Creek Tributary | At the confluence with Brushy Creek | None | •621 | Unincorporated Areas of Rockingham County.
| Approximately 0.8 mile upstream of the confluence with brushy Creek | None | •660
Brushy Creek Tributary | At the confluence with Brushy Creek | None | •621 | Unincorporated Areas of Rockingham County.
| Approximately 0.8 mile upstream of the confluence with brushy Creek | None | •660
Buffalo Creek (into Dan River) | At the confluence with Dan River | None | •527 | Unincorporated Areas of Rockingham County, City of Eden.
| Approximately 2.4 miles upstream of Wray Road | None | •920
Buffalo Creek (into Dan River) Tributary 2 | At the confluence with Buffalo Creek (into Dan River) | None | •527 | Unincorporated Areas of Rockingham County, City of Eden.
| Approximately 1,500 feet upstream of the confluence of Buffalo Creek (into Dan River) | None | •528
Buffalo Creek (into Dan River) Tributary 3 | At the confluence with Buffalo Creek (into Dan River) | None | •527 | Unincorporated Areas of Rockingham County, City of Eden.
| Approximately 100 feet upstream of SR 770 | None | •572
Buffalo Creek (into Dan River) Tributary 4 | At the confluence with Buffalo Creek (into Dan River) | None | •528 | Unincorporated Areas of Rockingham County.
| Approximately 500 feet upstream of Roberts Road | None | •627
Buffalo Creek (into Dan River) Tributary 5 | At the confluence with Buffalo Creek (into Dan River) | None | •538 | Unincorporated Areas of Rockingham County.
| Approximately 1,700 feet upstream of the confluence with Buffalo Creek (into Dan River) | None | •545
Buffalo Creek (into Mayo River) | At the confluence with Mayo River | None | •697 | Unincorporated Areas of Rockingham County.
| At the Rockingham/Stokes County boundary | None | •753
Buffalo Creek (into Mayo River) Tributary | At the confluence with Buffalo Creek (into Mayo River) | None | •697 | Unincorporated Areas of Rockingham County.
| Approximately 1,200 feet upstream of the confluence with Buffalo Creek (into Mayo River) | None | •710
Cascade Creek | At the confluence with Dan River | None | •499 | Unincorporated Areas of Rockingham County.
| Approximately 100 feet downstream of the North Carolina/Virginia State Line | None | •505
County Line Creek | At the Rockingham/Caswell County boundary | None | •602 | Unincorporated Areas of Rockingham County.
| Approximately 150 feet upstream of the Rockingham/Caswell County boundary | None | •604
Covenant Branch | At the confluence with Dan River | •507 | •508 | Unincorporated Areas of Rockingham County, City of Eden.
| Approximately 1.2 miles upstream of the confluence with Dan River | None | •527
Dan River | At the Rockingham/Caswell County boundary | None | •470 | Unincorporated Areas of Rockingham County, City of Eden.
| Approximately 900 feet upstream of the Rockingham/Stokes County boundary | None | •588
Dan River Tributary 1 of Tributary 26 | At the confluence with Dan River Tributary 26 | None | •548 | Unincorporated Areas of Rockingham County.
| Approximately 0.4 mile upstream of Belton Road | None | •597
Dan River Tributary 10 | At the confluence with Dan River | None | •533 | Unincorporated Areas of Rockingham County.
| Approximately 1,000 feet upstream of the confluence of Dan River Tributary of Tributary 10 | None | •535
Dan River Tributary 11 | At the confluence with Dan River | None | •535 | Unincorporated Areas of Rockingham County.
| Approximately 1,800 feet upstream of the confluence with Dan River | None | •540
Dan River Tributary 15 | At the confluence with Dan River | None | •540 | Unincorporated Areas of Rockingham County.
| Approximately 400 feet upstream of Eagle Falls Road | None | •550
Dan River Tributary 16 | At the confluence with Dan River | None | •541 | Unincorporated Areas of Rockingham County.
| Approximately 1,200 feet upstream of the confluence with Dan River | None | •555
Dan River Tributary 17 | At the confluence with Dan River | None | •541 | Unincorporated Areas of Rockingham County.
| Approximately 0.5 mile upstream of the confluence with Dan River | None | •562
Dan River Tributary 19 | At the confluence with Dan River | None | •540 | Unincorporated Areas of Rockingham County.
| Approximately 1,300 feet upstream of the confluence with Dan River | None | •554
Dan River Tributary 2 of Tributary 26 | At the confluence with Dan River Tributary 26 | None | •548 | Unincorporated Areas of Rockingham County.
| Approximately 1,300 feet upstream of the confluence with Dan River Tributary 26 | None | •562
Dan River Tributary 2 of Tributary 32 | At the confluence with Dan River Tributary 32 | None | •576 | Unincorporated Areas of Rockingham County.
| Approximately 1,000 feet upstream of the confluence with Dan River Tributary 32 | None | •582
Dan River Tributary 20 | At the confluence with Dan River | None | •543 | Unincorporated Areas of Rockingham County.
| Approximately 0.5 mile upstream of the confluence with Dan River | None | •563
Dan River Tributary 21 | At the confluence with Dan River | None | •547 | Unincorporated Areas of Rockingham County.
| Approximately 1,750 feet upstream of the confluence with Dan River | None | •591
Dan River Tributary 23 | At the confluence with Dan River | None | •547 | Unincorporated Areas of Rockingham County.
| Approximately 0.6 mile upstream of the confluence with Dan River | None | •571
Dan River Tributary 26 | At the confluence with Dan River | None | •548 | Unincorporated Areas of Rockingham County.
| Approximately 600 feet upstream of Grogan Road | None | •572
Dan River Tributary 29 | At the confluence with Dan River | None | •549 | Unincorporated Areas of Rockingham County.
| Approximately 0.8 mile upstream of the confluence with Dan River | None | •560
Dan River Tributary 32 | At the confluence with Dan River | None | •551 | Unincorporated Areas of Rockingham County.
| Approximately 0.7 mile upstream of the confluence with Dan River Tributary 2 of Tributary 32 | None | •590
Dan River Tributary 33 | At the confluence with Dan River | None | •554 | Unincorporated Areas of Rockingham County.
| Approximately 0.7 mile upstream of the confluence with Dan River | None | •589
Dan River Tributary 34 | At the confluence with Dan River | None | •555 | Unincorporated Areas of Rockingham County.
| Approximately 1.1 miles upstream of the confluence with Dan River | None | •627
Dan River Tributary 35 | At the confluence with Dan River | None | •558 | Unincorporated Areas of Rockingham County.
| Approximately 0.7 mile upstream of the confluence with Dan River | None | •639
Dan River Tributary 36 | At the confluence with Dan River | None | •558 | Unincorporated Areas of Rockingham County.
| Approximately 0.4 mile upstream of the confluence with Dan River | None | •562
Dan River Tributary 37 | At the confluence with Dan River | None | •559 | Unincorporated Areas of Rockingham County.
| Approximately 0.7 mile upstream of the confluence with Dan River | None | •598
Dan River Tributary 38 | At the confluence with Dan River | None | •562 | Unincorporated Areas of Rockingham County.
| Approximately 0.5 mile upstream of the confluence with Dan River | None | •566
Dan River Tributary 39 | At the confluence with Dan River | None | •567 | Unincorporated Areas of Rockingham County.
| Approximately 1,300 feet upstream of the confluence with Dan River | None | •598
Dan River Tributary 44 | At the confluence with Dan River | None | •584 | Unincorporated Areas of Rockingham County, Town of Madison.
| Approximately 1,900 feet upstream of the confluence with Dan River | None | •587
Dan River Tributary 45 | At the confluence with Dan River | None | •584 | Unincorporated Areas of Rockingham County.
| Approximately 0.4 mile upstream of the confluence with Dan River | None | •584
Dan River Tributary 47 | At the confluence with Dan River | None | •585 | Unincorporated Areas of Rockingham County.
| Approximately 800 feet upstream of Dodge Loop Road | None | •591
Dan River Tributary 48 | At the confluence with Dan River | None | •585 | Unincorporated Areas of Rockingham County.
| At the Rockingham/Stokes County boundary | None | •592
Dan River Tributary 49 | At the confluence with Dan River | None | •585 | Unincorporated Areas of Rockingham County.
| Approximately 1,900 feet upstream of the confluence with Dan River | None | •608
Dan River Tributary 51 | At the confluence with Dan River | None | •586 | Unincorporated Areas of Rockingham County.
| At the Rockingham/Stokes County boundary | None | •586
Dan River Tributary 6 | At the confluence with Dan River | None | •529 | Unincorporated Areas of Rockingham County.
| Approximately 0.5 mile upstream of the confluence with Dan River | None | •544
Dan River Tributary 7 | At the confluence with Dan River | None | •530 | Unincorporated Areas of Rockingham County.
| Approximately 0.6 mile upstream of the confluence with Dan River | None | •562
Dan River Tributary near Powells Store | At the confluence with Dan River | None | •503 | Unincorporated Areas of Rockingham County.
| Approximately 300 feet upstream of Chumney Loop | None | •536
Dan River Tributary of Tributary 10 | At the confluence with Dan River Tributary 10 | None | •533 | Unincorporated Areas of Rockingham County.
| Approximately 50 feet downstream of Riverside Circle | None | •545
Dry Creek | At the confluence with Cascade Creek | None | •499 | Unincorporated Areas of Rockingham County, City of Eden.
| Approximately 0.5 mile upstream of Main Street | None | •568
Eurins Creek | At the confluence with Belews Creek | None | •588 | Unincorporated Areas of Rockingham County.
| At the Rockingham/Stokes County boundary | None | •588
Fall Creek | At the confluence with Mayo River | None | •715 | Unincorporated Areas of Rockingham County.
| At North Carolina/Virginia State boundary | None | •748
Fall Creek Tributary | At the confluence with Fall Creek | None | •745 | Unincorporated Areas of Rockingham County.
| Approximately 1,000 feet upstream of the confluence with Fall Creek | None | •748
Hickory Creek | At the confluence with Mayo River | None | •690 | Unincorporated Areas of Rockingham County.
| Approximately 1,600 feet upstream of the confluence with Mayo River | None | •690
Hogans Creek (into Dan River east) | At the confluence of Lick Fork Creek | None | •470 | Unincorporated Areas of Rockingham County.
| Approximately 0.4 mile upstream of Bob White Drive | None | •741
Hogans Creek (into Dan River east) Tributary 10 | At the confluence with Hogans Creek (into Dan River east) | None | •577 | Unincorporated Areas of Rockingham County.
| Approximately 1.0 mile upstream of the confluence with Hogans Creek (into Dan River east) | None | •688
Hogans Creek (into Dan River east) Tributary 11 | At the confluence with Hogans Creek (into Dan River east) | None | •579 | Unincorporated Areas of Rockingham County.
| Approximately 0.7 mile upstream of the confluence with Hogans Creek (into Dan River east) | None | •647
Hogans Creek (into Dan River east) Tributary 12 | At the confluence with Hogans Creek (into Dan River east) | None | •589 | Unincorporated Areas of Rockingham County.
| Approximately 0.5 mile upstream of the confluence with Hogans Creek (into Dan River east) | None | •607
Hogans Creek (into Dan River east) Tributary 13 | At the confluence with Hogans Creek (into Dan River east) | None | •595 | Unincorporated Areas of Rockingham County.
| Approximately 0.5 mile upstream of the confluence with Hogans Creek (into Dan River east) | None | •610
Hogans Creek (into Dan River east) Tributary 4 | At the confluence with Hogans Creek (into Dan River east) | None | •476 | Unincorporated Areas of Rockingham County.
| At the Rockingham/Caswell County boundary | None | •476
Hogans Creek (into Dan River east) Tributary 4A | At the confluence with Hogans Creek (into Dan River east) | None | •504 | Unincorporated Areas of Rockingham County.
| Approximately 0.9 mile upstream of the confluence with Hogans Creek (into Dan River east) | None | •521
Hogans Creek (into Dan River east) Tributary 5 | At the confluence with Hogans Creek (into Dan River east) | None | •550 | Unincorporated Areas of Rockingham County.
| Approximately 0.6 mile upstream of the confluence with Hogans Creek (into Dan River east) | None | •572
Hogans Creek (into Dan River east) Tributary 7 | At the confluence with Hogans Creek (into Dan River east) | None | •558 | Unincorporated Areas of Rockingham County.
| Approximately 0.9 mile upstream of the confluence with Hogans Creek (into Dan River east) | None | •585
Hogans Creek (into Dan River east) Tributary 8 | At the confluence with Hogans Creek (into Dan River east) | None | •569 | Unincorporated Areas of Rockingham County.
| Approximately 0.7 mile upstream of the confluence with Hogans Creek (into Dan River east) | None | •647
Hogans Creek (into Dan River east) Tributary 9 | At the confluence with Hogans Creek (into Dan River east) | None | •574 | Unincorporated Areas of Rockingham County.
| Approximately 0.8 mile upstream of the confluence with Hogans Creek (into Dan River east) | None | •659
Hogans Creek (into Dan River west) | At the confluence with Dan River | None | •554 | Unincorporated Areas of Rockingham County.
| Approximately 0.4 mile upstream of Lemons Road | None | •799
Hogans Creek (into Dan River west) Tributary 1 | At the confluence with Hogans Creek (into Dan River west) | None | •630 | Unincorporated Areas of Rockingham County.
| Approximately 200 feet upstream of Bald Hill Loop Road | None | •647
Hogans Creek (into Dan River west) Tributary 2 | At the confluence with Hogans Creek (into Dan River west) | None | •639 | Unincorporated Areas of Rockingham County.
| Approximately 1,500 feet upstream of the confluence with Hogans Creek (into Dan River west) | None | •655
Huffines Mill Creek | At the confluence with Little Jacobs Creek | None | •573 | Unincorporated Areas of Rockingham County.
| Approximately 0.6 mile upstream of the confluence with Little Jacobs Creek | None | •615
Island Creek | Approximately 100 feet upstream of the confluence with Big Beaver Island Creek | None | •656 | Unincorporated Areas of Rockingham County.
| Approximately 0.9 mile upstream of Case School Road | None | •716
Jacobs Creek | At the confluence with Dan River | None | •551 | Unincorporated Areas of Rockingham County.
| Approximately 1.3 miles upstream of Carlton Road | None | •765
Jacobs Creek Tributary 1 | At the confluence with Jacobs Creek | None | •557 | Unincorporated Areas of Rockingham County.
| Approximately 0.6 mile upstream of the confluence with Jacobs Creek | None | •572
Jacobs Creek Tributary 2 | At the confluence with Jacobs Creek | None | •599 | Unincorporated Areas of Rockingham County.
| Approximately 1,300 feet upstream of the confluence with Jacobs Creek | None | •606
Jacobs Creek Tributary 3 | At the confluence with Jacobs Creek | None | •660 | Unincorporated Areas of Rockingham County.
| Approximately 1,100 feet upstream of the confluence with Jacobs Creek | None | •675
Jacobs Creek Tributary 4 | At the confluence with Jacobs Creek | None | •678 | Unincorporated Areas of Rockingham County.
| Approximately 0.5 mile upstream of Angoll Road | None | •700
Jacobs Creek Tributary near Gold Hill | At the confluence with Jacobs Creek | None | •681 | Unincorporated Areas of Rockingham County.
| Approximately 1,200 feet upstream of the confluence with Jacobs Creek | None | •699
Jacobs Creek Tributary near SR 2190 | At the confluence with Jacobs Creek | None | •551 | Unincorporated Areas of Rockingham County.
| Approximately 0.5 mile upstream of the confluence with Jacobs Creek | None | •564
Jones Branch (Jones Creek) | At the confluence with Matrimony Creek | None | •632 | Unincorporated Areas of Rockingham County.
| Approximately 900 feet upstream of the confluence with Matrimony Creek | None | •643
Jones Creek | At the confluence with Hogans Creek (into Dan River east) | None | •500 | Unincorporated Areas of Rockingham County, City of Reidsville.
| Approximately 1.0 mile upstream of the confluence with North Fork Jones Creek | None | •640
Jones Creek Tributary 8 | At the confluence with Jones Creek | None | •586 | Unincorporated Areas of Rockingham County.
| Approximately 700 feet upstream of the confluence with Jones Creek | None | •592
Jones Creek Tributary 1 | At the confluence with Jones Creek | None | •506 | Unincorporated Areas of Rockingham County.
| Approximately 1,300 feet upstream of the confluence with Jones Creek | None | •575
Jones Creek Tributary 2 | At the confluence with Jones Creek | None | •511 | Unincorporated Areas of Rockingham County.
| Approximately 0.5 mile upstream of the confluence with Jones Creek | None | •580
Jones Creek Tributary 3 | At the confluence with Jones Creek | None | •515 | Unincorporated Areas of Rockingham County.
| Approximately 0.6 mile upstream of the confluence with Jones Creek | None | •615
Jones Creek Tributary 4 | At the confluence with Jones Creek | None | •522 | Unincorporated Areas of Rockingham County.
| Approximately 0.6 mile upstream of the confluence with Jones Creek | None | •640
Jones Creek Tributary 5 | At the confluence with Jones Creek | None | •526 | Unincorporated Areas of Rockingham County.
| Approximately 0.6 mile upstream of the confluence with Jones Creek | None | •581
Jones Creek Tributary 6 | At the confluence with Jones Creek | None | •528 | Unincorporated Areas of Rockingham County.
| Approximately 0.7 mile upstream of the confluence with Jones Creek | None | •644
Jones Creek Tributary 9 | At the confluence with Jones Creek | None | •592 | Unincorporated Areas of Rockingham County.
| Approximately 0.5 mile upstream of the confluence with Jones Creek | None | •605
Lick Fork Creek | At the Caswell/Rockingham County boundary | None | •470 | Unincorporated Areas of Rockingham County, City of Reidsville.
| Approximately 0.5 mile upstream of NC 14 | None | •677
Lick Fork Creek Tributary 1 | At the confluence with Lick Fork Creek | None | •470 | Unincorporated Areas of Rockingham County.
| Approximately 800 feet upstream of the confluence with Lick Fork Creek | None | •476
Lick Fork Creek Tributary 10 | At the confluence with Lick Fork Creek | None | •538 | Unincorporated Areas of Rockingham County.
| Approximately 0.4 mile upstream of the confluence with Lick Fork Creek | None | •546
Lick Fork Creek Tributary 12 | At the confluence with Lick Fork Creek | None | •567 | Unincorporated Areas of Rockingham County.
| Approximately 620 feet upstream of the confluence with Lick Fork Creek | None | •570
Lick Fork Creek Tributary 16 | At the confluence with Lick Fork Creek | None | •586 | Unincorporated Areas of Rockingham County.
| Approximately 1,000 feet upstream of the confluence with Lick Fork Creek | None | •596
Lick Fork Creek Tributary 17 | At the confluence with Lick Fork Creek | None | •594 | Unincorporated Areas of Rockingham County.
| Approximately 700 feet upstream of the confluence with Lick Fork Creek | None | •603
Lick Fork Creek Tributary 5 | At the confluence with Lick Fork Creek | None | •484 | Unincorporated Areas of Rockingham County.
| Approximately 1,300 feet upstream of the confluence with Lick Fork Creek | None | •496
Lick Fork Creek Tributary 6 | At the confluence with Lick Fork Creek | None | •490 | Unincorporated Areas of Rockingham County.
| Approximately 1.2 miles upstream of the confluence with Lick Fork Creek | None | •531
Lick Fork Creek Tributary 9 | At the confluence with Lick Fork Creek | None | •534 | Unincorporated Areas of Rockingham County.
| Approximately 1.0 mile upstream of Hidden Valley Drive | None | •617
Little Beaver Island Creek | Approximately 0.9 mile downstream of Cardinal Road | None | •609 | Unincorporated Areas of Rockingham County.
| At Rockingham/Stokes County boundary | None | •657
Little Hogans Creek | At the confluence with Hogans Creek (into Dan River west) | None | •714 | Unincorporated Areas of Rockingham County.
| Approximately 1.1 miles upstream of Stanley Road | None | •789
Little Hogans Creek Tributary 1 | At the confluence with Little Hogans Creek | None | •737 | Unincorporated Areas of Rockingham County.
| Approximately 0.4 mile upstream of the confluence with Little Hogans Creek | None | •753
Little Hogans Creek Tributary 2 | At the confluence with Little Hogans Creek | None | •742 | Unincorporated Areas of Rockingham County.
| Approximately 1,950 feet upstream of the confluence with Little Hogans Creek | None | •758
Little Hogans Creek Tributary 3 | At the confluence with Little Hogans Creek | None | •750 | Unincorporated Areas of Rockingham County.
| Approximately 0.5 mile upstream of the confluence with Little Hogans Creek | None | •773
Little Jacobs Creek | At the confluence with Jacobs Creek | None | •559 | Unincorporated Areas of Rockingham County.
| Approximately 1.5 miles upstream of Webb Loop | None | •617
Massy Creek | At the confluence with Dan River | None | •546 | Unincorporated Areas of Rockingham County.
| Approximately 1.4 miles upstream of Smothers Road | None | •570
Massy Creek Tributary | At the confluence with Massy Creek | None | •546 | Unincorporated Areas of Rockingham County.
| Approximately 0.6 mile upstream of the confluence with Massy Creek | None | •605
Matrimony Creek | At the confluence with Dan River | •526 | •525 | Unincorporated Areas of Rockingham County, City of Eden.
| Approximately 400 feet upstream of the North Carolina/Virginia State boundary | None | •812
Matrimony Creek Tributary | At the confluence with Matrimony Creek | None | •664 | Unincorporated Areas of Rockingham County.
| Approximately 700 feet upstream of the confluence with Matrimony Creek | None | •668
Mayo River | Approximately 0.8 mile upstream of NC 135 | •592 | •593 | Unincorporated Areas of Rockingham County, Town of Mayodan.
| At the North Carolina/Virginia State boundary | None | •730
Mayo River Tributary 11 | At the confluence with Mayo River | None | •665 | Unincorporated Areas of Rockingham County.
| Approximately 1,700 feet upstream of the confluence with Mayo River | None | •668
Mayo River Tributary 12 | At the confluence with Mayo River | None | •667 | Unincorporated Areas of Rockingham County.
| Approximately 1,600 feet upstream of the confluence with Mayo River | None | •667
Mayo River Tributary 14 | At the confluence with Mayo River | None | •673 | Unincorporated Areas of Rockingham County.
| Approximately 800 feet upstream of the confluence with Mayo River | None | •673
Mayo River Tributary 16 | At the confluence with Mayo River | None | •678 | Unincorporated Areas of Rockingham County.
| Approximately 1,400 feet upstream of the confluence with Mayo River | None | •684
Mayo River Tributary 17 | At the confluence with Mayo River | None | •681 | Unincorporated Areas of Rockingham County.
| Approximately 2,000 feet upstream of the confluence with Mayo River | None | •705
Mayo River Tributary 18 | At the confluence with Mayo River | None | •684 | Unincorporated Areas of Rockingham County.
| Approximately 1,300 feet upstream of the confluence with Mayo River | None | •691
Mayo River Tributary 19 | At the confluence with Mayo River | None | •687 | Unincorporated Areas of Rockingham County.
| Approximately 1,100 feet upstream of the confluence with Mayo River | None | •687
Mayo River Tributary 20 | At the confluence with Mayo River | None | •687 | Unincorporated Areas of Rockingham County.
| Approximately 1,200 feet upstream of the confluence with Mayo River | None | •706
Mayo River Tributary 21 | At the confluence with Mayo River | None | •690 | Unincorporated Areas of Rockingham County.
| Approximately 600 feet upstream of the confluence with Mayo River | None | •702
Mayo River Tributary 22 | At the confluence with Mayo River | None | •694 | Unincorporated Areas of Rockingham County.
| Approximately 1,300 feet upstream of the confluence with Mayo River | None | •696
Mayo River Tributary 23 | At the confluence with Mayo River | None | •697 | Unincorporated Areas of Rockingham County.
| Approximately 1,000 feet upstream of the confluence with Mayo River | None | •721
Mayo River Tributary 24 | At the confluence with Mayo River | None | •697 | Unincorporated Areas of Rockingham County.
| Approximately 1,000 feet upstream of the confluence with Mayo River | None | •706
Mayo River Tributary 25 | At the confluence with Mayo River | None | •698 | Unincorporated Areas of Rockingham County.
| Approximately 1,800 feet upstream of the confluence with Mayo River | None | •718
Mayo River Tributary 26 | At the confluence with Mayo River | None | •700 | Unincorporated Areas of Rockingham County.
| At the confluence of Mayo River Tributary to Tributary 26 | None | •700
Mayo River Tributary 27 | At the confluence with Mayo River | None | •701 | Unincorporated Areas of Rockingham County.
| Approximately 50 feet downstream of Anglin Mill Road | None | •731
Mayo River Tributary 3 | At the confluence with Mayo River | None | •646 | Unincorporated Areas of Rockingham County.
| Approximately 1.2 miles upstream of U.S. 220 | None | •684
Mayo River Tributary 5 | At the confluence with Mayo River | None | •651 | Unincorporated Areas of Rockingham County.
| Approximately 1.4 miles upstream of Janet Road | None | •679
Mayo River Tributary 6 | At the confluence with Mayo River | None | •652 | Unincorporated Areas of Rockingham County.
| Approximately 150 feet upstream of Chaney Loop | None | •663
Mayo River Tributary 7 | At the confluence with Mayo River | None | •656 | Unincorporated Areas of Rockingham County.
| Approximately 1,600 feet upstream of the confluence with Mayo River | None | •676
Mayo River Tributary of Tributary 26 | At the confluence with Mayo River Tributary 26 | None | •700 | Unincorporated Areas of Rockingham County.
| Approximately 450 feet upstream of old Anglin Loop | None | •722
Mayo River Tributary of Tributary 5 | At the confluence with Mayo River Tributary 5 | None | •651 | Unincorporated Areas of Rockingham County.
| Approximately 1,000 feet upstream of the confluence with Mayo River Tributary 5 | None | •672
Means Creek | At the confluence with Mayo River | None | •676 | Unincorporated Areas of Rockingham County.
| Approximately 1,200 feet upstream of the confluence with Mayo River | None | •676
North Fork Jones Creek | At the confluence with Jones Creek | None | •612 | Unincorporated Areas of Rockingham County.
| Approximately 1,500 feet upstream of the confluence with Jones Creek | None | •624
North Fork Jones Creek Tributary of Tributary | At the confluence with North Fork Jones Creek | •672 | •673 | Unincorporated Areas of Rockingham County, City of Reidsville.
| Approximately 1,600 feet upstream of the confluence with North Fork Jones Creek | None | •695
Pawpaw Creek | At the confluence with Mayo River | None | •680 | Unincorporated Areas of Rockingham County.
| Approximately 250 feet upstream of Smith Road | None | •680
Pawpaw Creek Tributary | At the confluence with Pawpaw Creek | None | •680 | Unincorporated Areas of Rockingham County.
| Approximately 1,200 feet upstream of the confluence with Pawpaw Creek | None | •691
Reed Creek | Approximately 0.5 mile upstream of the confluence of Reed Creek Tributary | None | •586 | Unincorporated Areas of Rockingham County.
| At the Rockingham/Stokes County boundary | None | •606
Reed Creek Tributary | Approximately 600 feet upstream of the confluence with Reed Creek | None | •586 | Unincorporated Areas of Rockingham County, Town of Madison.
| Approximately 1.1 miles upstream of the confluence with Reed Creek | None | •609
Roach Creek | At the confluence with Dan River | None | •538 | Unincorporated Areas of Rockingham County.
| Approximately 0.9 mile upstream of the confluence of Roach Creek Tributary | None | •554
Roach Creek Tributary | At the confluence with Roach Creek | None | •538 | Unincorporated Areas of Rockingham County.
| Approximately 600 feet upstream of the confluence with Roach Creek | None | •566
Rock House Creek | At the confluence with Dan River | None | •538 | Unincorporated Areas of Rockingham County, Town of Wentworth.
| Approximately 0.6 mile upstream of SR 65 | None | •560
Rock House Creek Tributary | At the confluence with Rock House Creek | None | •538 | Town of Wentworth.
| Approximately 0.6 mile upstream of the confluence with Rock House Creek | None | •544
Rockingham Lake Creek | At the confluence with Hogans Creek (into Dan River east) | None | •519 | Unincorporated Areas of Rockingham County.
| Approximately 150 feet downstream of Anglers Drive | None | •533
Smith River | At the confluence with Dan River | None | •522 | Unincorporated Areas of Rockingham County, City of Eden.
| At North Carolina/Virginia State boundary | None | •571
Smith River Tributary 1 | Approximately 280 feet upstream of the confluence with Smith River | •534 | •535 | City of Eden.
| Approximately 1,980 feet upstream of the confluence of Smith River Tributary 2 of Tributary 1 | None | •647
Smith River Tributary 1 | At the confluence with Smith River Tributary 1 | None | •556 | City of Eden.
| Approximately 1,630 feet upstream of the confluence with Smith River Tributary 1 | None | •595
Smith River Tributary 2 of Tributary 1 | At the confluence with Smith River Tributary 1 | None | •601 | City of Eden.
| Approximately 1,600 feet upstream of John Street | None | •656
South Mayo River | At the confluence with Mayo River | None | •726 | Unincorporated Areas of Rockingham County.
| At North Carolina/Virginia State boundary | None | •726
Town Creek | At the confluence with Dan River | None | •509 | Unincorporated Areas of Rockingham County.
| Approximately 1,300 feet upstream of NC 14 | None | •584
Town Creek Tributary 1 | At the confluence with Town Creek | None | •509 | Unincorporated Areas of Rockingham County.
| Approximately 1.1 miles upstream of the confluence with Town Creek | None | •532
Town Creek Tributary 3 | At the confluence with Town Creek | None | •509 | Unincorporated Areas of Rockingham County.
| Approximately 0.4 mile upstream of the confluence with Town Creek | None | •522
Town Creek Tributary 4 | At the confluence with Town Creek | None | •524 | Unincorporated Areas of Rockingham County.
| Approximately 1.3 miles upstream of the confluence with Town Creek | None | •564
Whetstone Creek | At the confluence with Dan River | None | •531 | Unincorporated Areas of Rockingham County.
| Approximately 1,600 feet upstream of the confluence with Whetstone Creek Tributary | None | •534
Whetstone Creek Tributary | At the confluence with Whetstone Creek | None | •531 | Unincorporated Areas of Rockingham County.
| Approximately 0.4 mile upstream of the confluence with Whetstone Creek | None | •561
White Oak Creek | At the North Carolina/Virginia State boundary | None | •490 | Unincorporated Areas of Rockingham County.
| Approximately 1.0 mile upstream of Berry Hill Bridge Road | None | •536
Williamson Creek | At the confluence with Dan River | None | •470 | Unincorporated Areas of Rockingham County.
| Approximately 600 feet upstream of the confluence with Williamson Creek Tributary 11 | None | •560
Williamson Creek Tributary 1 | At the confluence with Williamson Creek | None | •470 | Unincorporated Areas of Rockingham County.
| Approximately 0.4 mile upstream of the confluence with Williamson Creek | None | •483
Williamson Creek Tributary 1 of Tributary 1 | At the confluence with Williamson Creek Tributary 1 | None | •470 | Unincorporated Areas of Rockingham County.
| Approximately 1,100 feet upstream of the confluence with Williamson Creek Tributary 1 | None | •496
Williamson Creek Tributary 10 | At the confluence with Williamson Creek | None | •543 | Unincorporated Areas of Rockingham County.
| Approximately 900 feet upstream of the confluence with Williamson Creek | None | •549
Williamson Creek Tributary 11 | At the confluence with Williamson Creek | None | •558 | Unincorporated Areas of Rockingham County.
| Approximately 500 feet upstream of the confluence with Williamson Creek | None | •569
Williamson Creek Tributary 2 | At the confluence with Williamson Creek | None | •470 | Unincorporated Areas of Rockingham County.
| Approximately 1,600 feet upstream of the confluence with Williamson Creek | None | •495
Williamson Creek Tributary 2 of Tributary 1 | At the confluence with Williamson Creek Tributary 1 | None | •475 | Unincorporated Areas of Rockingham County.
| Approximately 700 feet upstream of the confluence with Williamson Creek Tributary 1 | None | •489
Williamson Creek Tributary 3 | At the confluence with Williamson Creek | None | •481 | Unincorporated Areas of Rockingham County.
| Approximately 800 feet upstream of the confluence with Williamson Creek | None | •520
Williamson Creek Tributary 4 | At the confluence with Williamson Creek | None | •491 | Unincorporated Areas of Rockingham County.
| Approximately 750 feet upstream of the confluence with Williamson Creek | None | •506
Williamson Creek Tributary 5 | At the confluence with Williamson Creek | None | •505 | Unincorporated Areas of Rockingham County.
| Approximately 500 feet upstream of the confluence with Williamson Creek | None | •511
Williamson Creek Tributary 6 | At the confluence with Williamson Creek | None | •511 | Unincorporated Areas of Rockingham County.
| Approximately 700 feet upstream of the confluence with Williamson Creek | None | •522
Williamson Creek Tributary 7 | At the confluence with Williamson Creek | None | •521 | Unincorporated Areas of Rockingham County.
| Approximately 550 feet upstream of the confluence with Williamson Creek | None | •529
Williamson Creek Tributary 8 | At the confluence with Williamson Creek | None | •537 | Unincorporated Areas of Rockingham County.
| Approximately 500 feet upstream of the confluence with Williamson Creek | None | •547
Williamson Creek Tributary 9 | At the confluence with Williamson Creek | None | •540 | Unincorporated Areas of Rockingham County.
| Approximately 1,000 feet upstream of the confluence with Williamson Creek | None | •548
Wolf Island Creek | Approximately 150 feet downstream of the Rockingham/Caswell County boundary | None | •472 | Unincorporated Areas of Rockingham County, City of Reidsville.
| Approximately 1,900 feet downstream of NC 14 | None | •627
Wolf Island Creek | Approximately 1,600 feet downstream of State Route 14 | None | •628 | Unincorporated Areas of Rockingham County.
| At the upstream side of State Route 14 | None | •635
Wolf Island Creek Tributary 1 | At the upstream side of Wilson Road | None | •648 | Unincorporated Areas of Rockingham County, City of Reidsville.
| Approximately 0.5 mile upstream of Wilson Road | None | •653
Wolf Island Creek Tributary 2 | Approximately 800 feet upstream of Freeway Drive | None | •701 | City of Reidsville.
| Approximately 350 feet upstream of Franklin Street | None | •751
Wolf Island Creek Tributary near SR 1767 | At the confluence with Wolf Island Creek | None | •509 | Unincorporated Areas of Rockingham County.
| Approximately 0.5 mile upstream of the confluence with Wolf Island Creek | None | •518
Wolf Island Creek Tributary near SR 1902 | At the confluence with Wolf Island Creek | None | •503 | Unincorporated Areas of Rockingham County.
| Approximately 1.2 miles upstream of the confluence with Wolf Island Creek | None | •542
Wolf Island Creek Tributary of Tributary 2 | Approximately 500 feet upstream of the confluence with Wolf Island Creek Tributary 2 | None | •674 | Unincorporated Areas of Rockingham County, City of Reidsville.
| Approximately 900 feet upstream of Harrison Street | None | •776
City of Eden
Maps are available for inspection at Eden City Hall, Planning and Inspections Department, 308 East Stadium Drive, Eden, NC.
Send comments to The Honorable John E. Grogan, Mayor, City of Eden, 308 East Stadium Drive, Eden, NC 27288.
City of Reidsville
Maps are available for inspection at Reidsville City Hall, Department of Community Development, 2nd Floor, 230 West Morehead Street, Reidsville, NC.
Send comments to Mr. D. Kelly Almond, Reidsville City Manager, 230 West Morehead Street, Reidsville, NC 27320.
Town of Madison
Maps are available for inspection at Madison Town Hall, 120 North Market Street, Madison, NC 27025.
Send comments to Mr. Bob Scott, Madison Town Manager, 120 North Market Street, Madison, NC 27025.
Town of Mayodan
Maps are available for inspection at Mayodan Town Hall, 210 West Main Street, Mayodan, NC.
Send comments to Ms. Debra Cardwell, Mayodan Town Manager, 210 West Main Street, Mayodan, NC 27027.
Town of Stoneville
Maps are available for inspection at Stoneville Town Hall, 101 Smith Street, Stoneville, NC.
Send comments to The Honorable Rex Tuggle, Mayor, Town of Stoneville, P.O. Box 71, Stoneville, NC 27048.
Town of Wentworth
Maps are available for inspection at Wentworth Town Hall, 292 NC Highway 65, Wentworth, NC.
Send comments to The Honorable Dennis Paschal, Mayor, Town of Wentworth, P.O. Box 159, Wentworth, NC 27375.
Unincorporated Areas of Rockingham County
Maps are available for inspection at Rockingham County Planning and Inspections Department, Governmental Complex, 361 Highway 65, Wentworth, NC.
Send comments to Mr. Thomas Robinson, Rockingham County Manager, P.O. Box 206, Wentworth, NC 27375.
Sampson County
Bills Swamp | At the confluence with Little Coharie Creek | None | •58 | Unincorporated Areas of Sampson County.
| Approximately 1.4 miles upstream of Norris Road | None | •89
Gilmore Swamp Tributary | At the confluence with Gilmore Swamp | None | •115 | Unincorporated Areas of Sampson County.
| Approximately 1.6 miles upstream of King Road | None | •136
Clifton (formerly Kings) Branch | At the confluence with Six Runs Creek | None | •121 | Unincorporated Areas of Sampson County.
| Approximately 2.1 miles upstream of the confluence with Six Runs Creek | None | •137
Hoe Swamp | At the confluence with Six Runs Creek | None | •118 | Sampson County (Unincorporated Areas).
| Approximately 0.9 mile upstream of Hunter Road | None | •157
Kill Swamp | At the confluence with Great Coharie Creek | None | •132 | Sampson County (Unincorporated Areas).
| Approximately 1.2 miles upstream of Emmet Thornoton Road | None | •176
Mill Creek | At the Sampson/Duplin County boundary | None | •51 | Unincorporated Areas of Sampson County.
| Approximately 800 feet upstream of Matthews Road | None | •66
Peters Creek | At the confluence with Buckhorn Branch | None | •70 | Unincorporated Areas of Sampson County.
| Approximately 0.8 mile upstream of the confluence with Buckhorn Branch | None | •100
Sevenmile Swamp | At the confluence with Great Coharie Creek | None | •128 | Unincorporated Areas of Sampson County.
| Approximately 0.9 mile upstream of Easy Street | None | •193
Williams Old Mill Branch | Approximately 600 feet upstream of U.S. 701 | None | •121 | City of Clinton, Sampson County (Unincorporated Areas).
| Approximately 400 feet upstream of Northeast Boulevard | None | •124
City of Clinton
Maps available for inspection at the Clinton City Hall, 227 Lisbon Street, Clinton, North Carolina.
Send comments to The Honorable Lew Starling, Mayor of the City of Clinton, P.O. Box 199, Clinton, North Carolina 28329-0199.
Sampson County (Unincorporated Areas)
Maps available for inspection at the Sampson County Inspections Department, 383 County Complex Road, Clinton, North Carolina.
Send comments to Mr. Scott Sauer, Sampson County Manager, 435 Rowan Road, Clinton, North Carolina 28328.
Vance County
Anderson Creek | At the confluence with John H. Kerr Reservoir | None | •320 | Vance County (Unincorporated Areas).
| Approximately 1.7 miles upstream of Anderson Creek Road | None | •329
Crooked Run | At the confluence with John H. Kerr Reservoir | None | •320 | Vance County (Unincorporated Areas).
| Approximately 1.7 miles upstream of NC 39 | None | •326
Crooked Run Tributary 1 | At the confluence with Crooked Run | None | •320 | Vance County (Unincorporated Areas).
| Approximately 1.6 miles upstream of the confluence with Crooked Run | None | •327
Flat Creek | At the confluence with John H. Kerr Reservoir | None | •320 | Vance County (Unincorporated Areas).
| Approximately 1.5 miles upstream of John H. Kelly Road | None | •331
Gillians Branch | At the Virginia/North Carolina State boundary | None | •289 | Vance County (Unincorporated Areas)
| Approximately 2.7 miles upstream of the Virginia/North Carolina State boundary | None | •295
Indian Creek | At the confluence with John H. Kerr Reservoir | None | •320 | Vance County (Unincorporated Areas), City of Henderson
| Approximately 0.5 mile upstream of I-85 | None | •502
Island Creek | At the confluence with Island Reservoir | None | •289 | Vance County (Unincorporated Areas).
| Approximately 700 feet upstream of the confluence of Michael Creek | None | •303
Island Reservoir | Entire shoreline within the County | None | •289 | Vance County (Unincorporated Areas).
John H. Kerr Reservoir | Entire shoreline within the County | None | •320 | Vance County (Unincorporated Areas).
John H. Kerr Reservoir Tributary 3D | At the confluence with John H. Kerr Reservoir | None | •320 | Vance County (Unincorporated Areas).
| Approximately 0.6 mile upstream of the confluence of John H. Kerr Reservoir Tributary 3D-2 | None | •324 |
John H. Kerr Reservoir Tributary 3D-2 | At the confluence with John H. Kerr Reservoir 3D | None | •320 | Vance County (Unincorporated Areas).
| Approximately 0.5 mile upstream of the confluence with John H. Kerr Reservoir 3D | None | •323
John H. Kerr Reservoir Tributary 4 | At the confluence with John H. Kerr Reservoir | None | •320 | Vance County (Unincorporated Areas).
| Approximately 0.8 mile upstream of the confluence with John H. Kerr Reservoir | None | •322
John H. Kerr Reservoir Tributary 3D-1 | At the confluence with John H. Kerr Reservoir | None | •320 | Vance County (Unincorporated Areas).
| Approximately 0.7 mile upstream of the confluence with John H. Kerr Reservoir Tributary 3D | None | •326
Little Island Creek | At the confluence with Island Creek | None | •289 | Vance County (Unincorporated Areas).
| Approximately 2.0 miles upstream of Rice Road | None | •339
Little Island Creek Tributary 1 | At the confluence with Little Island Creek | None | •289 | Vance County (Unincorporated Areas).
| Approximately 0.8 mile upstream of the confluence with Little Island Creek | None | •300
Long Grass Branch | At the Virginia/North Carolina State boundary | None | •326 | Vance County (Unincorporated Areas).
| Approximately 1,400 feet upstream of Virginia/North Carolina State boundary | None | •346
Michael Creek | At the confluence with Island Creek | None | •301 | Vance County (Unincorporated Areas).
| Approximately 2.9 miles upstream of the confluence with Island Creek | None | •337
Nutbrush Creek | At the confluence with John H. Kerr Reservoir | None | •320 | Vance County (Unincorporated Areas), City of Henderson.
| Approximately 0.8 mile upstream of I-85 | None | •406
Nutbrush Creek Tributary 1 | At the confluence with Nutbrush Creek | None | •331 | Vance County (Unincorporated Areas), City of Henderson.
| Approximately 1.2 miles upstream of the confluence with Nutbrush Creek | None | •416
Nutbrush Creek Tributary 2 | At the confluence with Nutbrush Creek | None | •346 | Vance County (Unincorporated Areas), City of Henderson.
| Approximately 1,700 feet upstream of I-85 | None | •429
Nutbrush Creek Tributary 2A | At the confluence with Nutbrush Creek Tributary 2 | None | •360 | Vance County (Unincorporated Areas), City of Henderson.
| Approximately 0.6 mile upstream of the confluence with Nutbrush Creek Tributary 2 | None | •400
Nutbrush Creek Tributary 2B | At the confluence with Nutbrush Creek Tributary 2 | None | •368 | Vance County (Unincorporated Areas), City of Henderson.
| Approximately 0.4 mile upstream of I-85 | None | •466
Nutbrush Creek Tributary 3 | At the confluence with Nutbrush Creek | None | •369 | City of Henderson.
| Approximately 200 feet upstream of Granite Street | None | •444
Nutbrush Creek Tributary 3A | At the confluence with Nutbrush Creek Tributary 3 | None | •375 | City of Henderson.
| Approximately 0.4 mile upstream of Beckford Drive | None | •443
Nutbrush Creek Tributary 3B | At the confluence with Nutbrush Creek Tributary 3 | None | •394 | City of Henderson.
| Approximately 700 feet upstream of Parkway Drive | None | •440
City of Henderson
Maps are available for inspection at the City of Henderson Planning Department, 180 South Beckford Drive, Henderson, NC 27536
Send comments to the Honorable Donald C. Seifert, Jr., Mayor of the City of Henderson, P.O. Box 1434, Henderson, NC 27536.
Vance County
Maps are available for inspection at the Vance County Planning and Development Office, 156 Church Street, Suite 003, Henderson, NC 27536.
Send comments to Mr. J. Timothy Pegram, Chairman of the Vance County Board of Commissioners, 156 Church Street, Suite 003, Henderson, NC 27536.
Warren County
Big Stone House Creek | At the confluence with Lake Gaston | None | •203 | Unincorporated Areas of Warren County.
| Approximately 3.2 miles upstream of Epworth Road | None | •240
Blue Mud Creek | At the confluence with Terrapin Creek | None | •227 | Unincorporated Areas of Warren County.
| At the confluence of West Branch | None | •274
Blue Mud Creek Tributary 1 | At the confluence with Blue Mud Creek | None | •227 | Unincorporated Areas of Warren County.
| Approximately 570 feet upstream of the confluence of Blue Mud Creek Tributary 1A | None | •250
Blue Mud Creek Tributary 1A | At the confluence with Blue Mud Creek Tributary 1 | None | •239 | Unincorporated Areas of Warren County.
| Approximately 750 feet upstream of the confluence with Blue Mud Creek Tributary 1 | None | •244
Cabin Branch (into Smith Creek) | At the confluence with Smith Creek | None | •240 | Unincorporated Areas of Warren County.
| Approximately 1.3 miles upstream of the confluence with Smith Creek | None | •257
Coleman Branch | At the confluence with Hawtree Creek | None | •203 | Unincorporated Areas of Warren County.
| Approximately 1.0 mile upstream of the confluence with Hawtree Creek | None | •217
Ellington Branch | At the confluence with Little Deep Creek | None | •253 | Unincorporated Areas of Warren County.
| Approximately 1,200 feet upstream of the confluence with Little Deep Creek | None | •256
Hawtree Creek | Approximately 700 feet downstream of Peete Farm Road | None | •203 | Unincorporated Areas of Warren County.
| Approximately 1,400 feet upstream of the confluence of Hawtree Creek Tributary 5 | None | •270
Hawtree Creek Tributary 1 | At the confluence with Hawtree Creek | None | •203 | Unincorporated Areas of Warren County.
| Approximately 1.0 mile upstream with the confluence with Hawtree Creek | None | •224
Hawtree Creek Tributary 2 | At the confluence with Hawtree Creek | None | •211 | Unincorporated Areas of Warren County.
| Approximately 1,700 feet upstream of the confluence with Hawtree Creek | None | •220
Hawtree Creek Tributary 3 | At the confluence with Hawtree Creek | None | •229 | Unincorporated Areas of Warren County.
| Approximately 0.5 mile upstream of the confluence with Hawtree Creek | None | •243
Hawtree Creek Tributary 4 | At the confluence with Hawtree Creek | None | •243 | Unincorporated Areas of Warren County.
| Approximately 1,400 feet upstream of Boyd Stegall Road | None | •250
Hawtree Creek Tributary 5 | At the confluence with Hawtree Creek | None | •264 | Unincorporated Areas of Warren County.
| Approximately 430 feet upstream of Waviely Thompson Road | None | •272
Hubquarter Creek | At the confluence with Lake Gaston | None | •203 | Unincorporated Areas of Warren County.
| Approximately 2.0 miles upstream of Flemming Mill Road | None | •254
Hubquarter Creek Tributary 1 | At the confluence with Hubquarter Creek | None | •211 | Unincorporated Areas of Warren County.
| Approximately 1.5 miles upstream of Flemming Mill Road | None | •269
John H. Kerr Reservoir | Entire shoreline within County | None | •320 | Unincorporated Areas of Warren County.
Jordan Creek | At the confluence with Lake Gaston | None | •203 | Unincorporated Areas of Warren County.
| Approximately 1.7 miles upstream of Wise Five-Forks Road | None | •251
Keats Branch | At the confluence with John H. Kerr Reservoir | None | •320 | Unincorporated Areas of Warren County.
| Approximately 0.4 mile upstream of the confluence with John H. Kerr Reservoir | None | •328
Lake Gaston | Entire shoreline west of Eaton Ferry Road | None | •203 | Unincorporated Areas of Warren County.
Little Deep Creek | At the confluence with Smith Creek | None | •230 | Unincorporated Areas of Warren County.
| Approximately 0.4 mile upstream of the confluence of Ellington Branch | None | •259
Little Stone House Creek | At the upstream side of Shawspring Road | None | •208 | Unincorporated Areas of Warren County.
| Approximately 0.6 mile upstream of Shawspring Road | None | •214
Mill Creek | At the confluence with Lake Gaston | None | •203 | Unincorporated Areas of Warren County.
| At the North Carolina/Virginia border | None | •214
Reedy Creek (into John H. Kerr Reservoir) | At the North Carolina/Virginia border | None | •219 | Unincorporated Areas of Warren County.
| Approximately 1.3 miles upstream of the North Carolina/Virginia border | None | •251
Roanoke River Tributary 18 | At the confluence with Lake Gaston | None | •203 | Unincorporated Areas of Warren County.
| Approximately 0.6 mile upstream of the confluence with Lake Gaston | None | •250
Rocky Branch | At the confluence with Hawtree Creek | None | •213 | Unincorporated Areas of Warren County.
| Approximately 1.1 miles upstream of the confluence with Hawtree Creek | None | •233
Sauls Creek | At the confluence with Hawtree Creek | None | •224 | Unincorporated Areas of Warren County.
| Approximately 0.5 mile upstream of the confluence with Hawtree Creek | None | •231
Sixpound Creek | At the confluence with Lake Gaston | None | •203 | Unincorporated Areas of Warren County.
| Approximately 3.1 miles upstream of Wise Five-Forks Road | None | •253
Smith Creek | Approximately 1,400 feet downstream of U.S. Route 1 | None | •222 | Unincorporated Areas of Warren County.
| Approximately 0.5 mile upstream of Ridgeway Drewry Road | None | •308
Smith Creek Tributary 1 | At the confluence with Smith Creek | None | •224 | Unincorporated Areas of Warren County.
| Approximately 2.2 miles upstream of the confluence with Smith Creek | None | •253
Smith Creek Tributary 1A | At the confluence with Smith Creek Tributary 1 | None | •239 | Unincorporated Areas of Warren County.
| Approximately 0.3 mile upstream of the confluence with Smith Creek Tributary 1 | None | •254
Smith Creek Tributary 2 | At the confluence with Smith Creek | None | •224 | Unincorporated Areas of Warren County.
| Approximately 0.8 mile upstream of the confluence with Smith Creek | None | •241
Smith Creek Tributary 3 | At the confluence with Smith Creek | None | •275 | Unincorporated Areas of Warren County.
| Approximately 0.3 mile upstream of the confluence with Smith Creek | None | •279
Smith Creek Tributary 4 | At the confluence with Smith Creek | None | •278 | Unincorporated Areas of Warren County.
| Approximately 0.9 mile upstream of the confluence with Smith Creek | None | •304
Smith Creek Tributary 5 | At the confluence with Smith Creek | None | •298 | Unincorporated Areas of Warren County.
| Approximately 0.5 mile upstream of the confluence with Smith Creek | None | •306
Terrapin Creek | At the confluence with Smith Creek | None | •223 | Unincorporated Areas of Warren County.
| Approximately 1,700 feet upstream of Beaver Dam Road | None | •260
Terrapin Creek Tributary 1 | At the confluence with Terrapin Creek | None | •223 | Unincorporated Areas of Warren County.
| Approximately 1,200 feet upstream of the confluence with Terrapin Creek | None | •229
West Branch | At the confluence with Blue Mud Creek | None | •274 | Unincorporated Areas of Warren County, Town of Norlina.
| Approximately 2.0 miles upstream of the confluence with Blue Mud Creek | None | •349
Town of Norlina
Maps are available for inspection at the Norlina Town Hall, 101 Main Street, Norlina, NC 27563.
Send comments to The Honorable Walter Newman, Mayor of the Town of Norlina, P.O. Box 149, Norlina, NC 27563.
Unincorporated Areas of Warren County
Maps are available for inspection at the Warren County Planning and Zoning Office, 542 West Ridgeway Street, Warrenton, NC 27589.
Send comments to Ms. Linda T. Jones, Warren County Manager, P.O. Box 619, Warrenton, NC 27589.
U.S. VIRGIN ISLANDS
Atlantic Ocean—St. John | Approximately 1,800 feet west of the intersection of Caheel Trail and North Shore Road | *5 | *6 | Island of St. John.
| At Privateer Point | *5 | *25
Caribbean Sea—St. John | Approximately 500 feet east of intersection of Pond Bay and Iguera Road | None | *4 | Island of St. John.
| At Dittlit Point | *6 | *25
Pillsbury Sound—St. John | Approximately 250 feet west of the intersection of North Shore Road and Pocket Money Lane | *5 | *6 | Island of St. John.
| Approximately 600 feet south of the intersection of Idesephus Road and Azure Bay Road | *5 | *25
Atlantic Ocean—St. Thomas | Thach Cay at Eva Point | *6 | *7 | Island of St. Thomas.
| Approximately 0.5 mile north of North Meander Place and Fortuna Road | *5 | *25
Caribbean Sea—St. Thomas | Approximately 750 feet southwest of the intersection of Rue de Gregoire and Veteran Drive | *6 | *5 | Island of St. Thomas.
| Approximately 0.5 mile south of North Meander Road and Fortuna Road | *6 | *25 |
Pillsbury Sound—St. Thomas | Approximately 1,000 feet east of the intersection of Smith Bay Road and Pavillion Road | *5 | *6 | Island of St. Thomas.
| Approximately 0.6 mile south of the intersection of Julian Jackson Road and Airport Road | *6 | *25 |
Leeward Passage—St. Thomas | Approximately 1,200 feet east of the intersection of Suzzana Road and Smith Bay Road | *5 | *8 | Island of St Thomas.
| At Coki Point | *5 | *23 |
Caribbean Sea—St. Thomas | Approximately 0.6 mile southwest of the intersection of North Meander Road and Fortuna Road | None | #3 | Island of St. Thomas.
Caribbean Sea—St. Croix | At the intersection of Crab Lane and Dyers Climb | *5 | *8 | Island of St. Croix.
| At Protestant Cay | *5 | *19 |
Gut No. 1 | At confluence with Christiansted Harbor | *5 | *17 | Island of St. Croix.
| Approximately 430 feet upstream of the confluence with Christiansted Harbor | *11 | *12 |
Gut No. 2 | At confluence with Christiansted Harbor | *5 | *19 | Island of St. Croix.
| Approximately 880 feet upstream of the confluence with Christiansted Harbor | *12 | *13 |
Gut No. 3 | At confluence with Christiansted Harbor | *5 | *18 | Island of St. Croix.
| Approximately 800 feet upstream of the confluence with Christiansted Harbor | *10 | *11 |
Gut No. 4 | At confluence with Altona Lagoon | *6 | *10 | Island of St. Croix.
| Approximately 860 feet upstream of the confluence with Altona Lagoon | *7 | *11 |
Gut No. 5 | At confluence with Caribbean Sea | *6 | *15 | Island of St. Croix.
| Approximately 900 feet upstream of the confluence with Caribbean Sea | *11 | *12 |
Gut No. 6 | At confluence with Caribbean Sea | *5 | *13 | Island of St. Croix
| Approximately 1,100 feet upstream of the confluence with Caribbean Sea | *9 | *10 |
Salt River | At confluence with Sugar Bay | 5 | 10 | Island of St. Croix.
| Approximately 650 feet upstream of the confluence with Sugar Bay | *9 | *10 |
Turpentine Run | At confluence with Mangrove Lagoon | *6 | *11 | Island of St. Thomas.
| Approximately 960 feet upstream of the confluence with Mangrove Lagoon | *10 | *11 |
U.S. Virgin Islands (Islands of St. Croix, St. Thomas, and St. John)
Maps available for inspection at the Office of the Tax Assessor and the Cadastral Section, 113 King Street, Christiansted, Virgin Islands.
Send comments to The Honorable Charles W. Turnbull, Governor of the U.S. Virgin Islands, 22-22 Kongens Gade, St. Thomas, Virgin Islands 00802.
VERMONT
Windham County
Connecticut River | Approximately 0.45 mile upstream of Vernon Dam | •227 | •226 | Town of Rockinham, Town of Vernon.
| Approximately 7.42 mile upstream of Bellows Falls Dam | •306 | •305 |
Saxtons River | At the confluence with the Connecticut River | None | •257 | Town of Grafton, Town of Athens, Town of Bellows Falls.
| Approximately 1,950 feet upstream of the confluence of Weaver Brook | None | •590 |
Wardsboro Brook | Approximately 1,060 feet upstream of the upstream crossing of Vermont Route 100 | •920 | •923 | Town of Jamaica, Town of Wardsboro.
| Approximately 1,470 feet upstream of the upstream crossing of Vermont Route 100 | •928 | •927 |
West River | At the confluence with the Connecticut River | •235 | •232 | Town of Brattleboro, Town of Jamaica.
| Upstream side of Ball Mountain Dam | None | •1,020 |
Whetstone Brook | At the confluence with the Connecticut River | •233 | •231 | Town of Brattleboro.
| Approximately 240 feet above Boston and Maine Railroad | •233 | •234 |
Williams River | Downstream side of U.S. Highway 5/Missing Link Road | •302 | •301 | Town of Rockingham
| At the confluence with the Connecticut River | •302 | •301
Town of Athens
Maps available for inspection at the Athens Town Office, 25 Brookline Road, Athens, Vermont.
Send comments to Mr. David Bemis, Chairman of the Town of Athens Board of Selectmen, Athens Town Office, 25 Brookline Road, Athens, Vermont 05143.
Village of Bellows Falls and Town of Rockingham
Maps available for inspection at the Bellows Falls and Rockingham Village and Town Hall, 7 Square, 3rd Floor, Bellows Falls, Vermont.
Send comments to Mr. Shane O'Keefe, Village of Bellows Falls and Town of Rockingham Municipal Manager, P.O. Box 370, Bellows Falls, Vermont 05101.
Town of Brattleboro
Maps available for inspection at the Town of Brattleboro Planning Services Department, 230 Main Street, Suite 202, Brattleboro, Vermont.
Send comments to Mr. Stephen A. Steidle, Chairman of the Town of Brattleboro Board of Selectmen, 230 Main Street, Suite 208, Brattleboro, Vermont 05301.
Town of Grafton
Maps available for inspection at the Grafton Town Office, Main Street, Grafton, Vermont.
Send comments to Mr. Robert Crawford, Chairman of the Town of Grafton Board of Selectmen, Grafton Town Hall, P.O. Box 180, Grafton, Vermont 05146.
Town of Jamaica
Maps available for inspection at the Jamaica Town Hall, 17 Pike Falls Road, Jamaica, Vermont.
Send comments to Mr. Joel Beckwith, Chairman of the Town of Jamaica Board of Selectmen, Jamaica Town Hall, P.O. Box 173, Jamaica, Vermont 05343.
Town of Vernon
Maps available for inspection at the Wardsboro Town Hall, 71 Main Street, Wardsboro, Vermont.
Send comments to Mr. Peter Sebastian, Chairman of the Town of Wardsboro Board of Selectmen, Wardsboro Town Hall, P.O. Box 48, Wardsboro, Vermont 05355.
Windsor County
Black River | Approximately 0.65 mile upstream of Ricks Road | •1,319 | •1,318 | Town of Plymouth.
| Approximately 0.88 mile upstream of Ricks Road | None | •1,337
Connecticut River | Approximately 1.91 miles downstream of confluence of the Black River | •306 | •305 | Town of Hartland, Town of Springfield.
| Approximately 2.27 miles upstream of confluence of Lulls Brook | •334 | •335
Gulf Stream Brook | Approximately 0.98 mile upstream of confluence of North Bridgewater Brook | None | •873 | Town of Pomfret.
| Approximately 1.04 miles upstream of confluence of North Bridgewater Brook | None | •875
Mill Brook | At the confluence with the Connecticut River | •326 | •328 | Town of Reading, Town of Windsor.
| Approximately 1,500 feet upstream of Windsor Mineral Company Private Bridge | None | •845
North Branch Black River | Approximately 0.55 mile upstream of Markwell Road | •650 | •653 | Town of Cavendish, Town of Reading.
| Approximately 675 feet downstream of confluence of Knapp Brook | •681 | •682
Ottauquechee River | Approximately 0.94 mile upstream of Taftsville Dam | None | •657 | Town of Bridgewater, Town of Pomfret.
| Approximately 1,840 feet upstream of confluence of Curtis Hollow Brook | •816 | •815
Second Branch White River | Approximately 1.24 miles upstream of State Route 14 | •526 | •525 | Town of Bethel, Town of Royalton.
| Approximately 0.86 mile downstream of Stove Hill Road | •528 | •527
White River | Approximately 0.79 mile downstream of State Routes 12 and 107/River Street | •535 | •531 | Town of Bethel, Town of Stockbridge.
| Approximately 3.56 miles downstream of Liberty Hill Road | •753 | •754
Town of Bethel
Maps available for inspection at the Bethel Town Office, 134 South Main Street, Bethel, Vermont.
Send comments to Mr. Delbert Cloud, Bethel Town Manager, 134 South Main Street, Bethel, Vermont 05032.
Town of Bridgewater
Maps available for inspection at the Bridgewater Town Office, 7335 U.S. Route 4, Bridgewater, Vermont.
Send comments to Mr. Nelson B. Lee, Jr., Chairman of the Town of Bridgewater Board of Selectmen, P.O. Box 14, Bridgewater, Vermont 05034.
Town of Cavendish
Maps available for inspection at the Cavendish Town Office, 37 High Street, Cavendish, Vermont.
Send comments to Mr. James Ballantine, Chairman of the Town of Cavendish Board of Selectmen, Cavendish Town Office, P.O. Box 126, Cavendish, Vermont 05142.
Town of Hartland
Maps available for inspection at the Town of Hartland Clerk's Office, Damon Hall, 1 Quechee Road, Hartland, Vermont.
Send comments to Mr. Robert Stacey, Hartland Town Manager, P.O. Box 349, Hartland, Vermont 05048.
Town of Plymouth
Maps available for inspection at the Plymouth Town Office, 68 Town Office Road, Plymouth, Vermont.
Send comments to Mr. Lawrence Lynds, Chairman of the Town of Plymouth Board of Selectmen, 68 Town Office Road, Plymouth, Vermont 05056.
Town of Pomfret
Maps available for inspection at the Pomfret Town Office, 5188 Pomfret Road, North Pomfret, Vermont.
Send comments to Mr. James Havill, Chairman of the Town of Pomfret Board of Selectmen, P.O. Box 599, Woodstock, Vermont 05091.
Town of Reading
Maps available for inspection at the Reading Town Office, Robinson Hall, 799 Vermont Route 106, Reading, Vermont.
Send comments to Mr. Robert K. Allen, Chairman of the Town of Reading Board of Selectmen, P.O. Box 72, Reading, Vermont 05062.
Town of Royalton
Maps available for inspection at the Royalton Town Office, 23 Alexander Place, Suite 1, South Royalton, Vermont.
Send comments to Mr. Larry Trottier, Chairman of the Town of Royalton Board of Selectmen, P.O. Box 680, South Royalton, Vermont 05068.
Town of Springfield
Maps available for inspection at the Springfield Town Office, 96 Main Street, Springfield, Vermont.
Send comments to Ms. Helen Hawthorne, Chairperson for the Town of Springfield Board of Selectmen, 96 Main Street, Springfield, Vermont 05156.
Town of Stockbridge
Maps available for inspection at the Town of Stockbridge Clerk's Office, 1722 Vermont Route 100, Stockbridge, Vermont.
Send comments to Mr. Mark Pelletier, Chairman of the Town of Stockbridge Board of Selectmen, P.O. Box 39, Stockbridge, Vermont 05772.
Town of Windsor
Maps available for inspection at the Windsor Town Office, 29 Union Street, Windsor, Vermont.
Send comments to Mr. Donald Howard, Windsor Town Administrator, Municipal Building, 29 Union Street, Windsor, Vermont 05089.

(Catalog of Federal Domestic Assistance No. 83.100, “Flood Insurance.”)
Dated: June 5, 2006.
David I. Maurstad,
Director, Mitigation Division, Federal Emergency Management Agency, Department of Homeland Security.

[FR Doc. 06-5309 Filed 6-9-06; 8:45 am]

BILLING CODE 9110-12-P